DEPARTMENT OF COMMERCE

National Oceanic and Atmospheric Administration

50 CFR Part 679

[Docket No. 160920866-7167-02]

RIN 0648-XE904

Fisheries of the Exclusive Economic Zone Off Alaska; Gulf of Alaska; Final 2017 and 2018 Harvest Specifications for Groundfish

AGENCY: National Marine Fisheries Service (NMFS), National Oceanic and Atmospheric Administration (NOAA), Commerce.

ACTION: Final rule; harvest specifications and closures.

SUMMARY: NMFS announces final 2017 and 2018 harvest specifications, apportionments, and Pacific halibut prohibited species catch limits for the groundfish fishery of the Gulf of Alaska (GOA). This action is necessary to establish harvest limits for groundfish during the 2017 and 2018 fishing years and to accomplish the goals and objectives of the Fishery Management Plan for Groundfish of the Gulf of Alaska. The intended effect of this action is to conserve and manage the groundfish resources in the GOA in accordance with the Magnuson-Stevens Fishery Conservation and Management Act.

DATES: Harvest specifications and closures are effective at 1200 hours, Alaska local time (A.l.t.), February 27, 2017, through 2400 hrs, A.l.t., December 31, 2018.

ADDRESSES: Electronic copies of the Final Alaska Groundfish Harvest Specifications Environmental Impact Statement (EIS), Record of Decision (ROD), and the Supplementary Information Report (SIR) to the EIS prepared for this action are available from http://alaskafisheries.noaa.gov. The final 2016 Stock Assessment and Fishery Evaluation (SAFE) report for the groundfish resources of the GOA, dated November 2016, is available from the North Pacific Fishery Management Council (Council) at 605 West 4th Avenue, Suite 306, Anchorage, AK 99510-2252, phone 907-271-2809, or from the Council's Web site at http://www.npfmc.org.

FOR FURTHER INFORMATION CONTACT: Obren Davis, 907-586-7228.

SUPPLEMENTARY INFORMATION: NMFS manages the GOA groundfish fisheries in the exclusive economic zone of the GOA under the Fishery Management Plan for Groundfish of the Gulf of Alaska (FMP). The Council prepared the FMP under the authority of the Magnuson-Stevens Fishery Conservation and Management Act, 16 U.S.C. 1801 et seq. Regulations governing U.S. fisheries and implementing the FMP appear at 50 CFR parts 600, 679, and 680.

The FMP and its implementing regulations require NMFS, after consultation with the Council, to specify the total allowable catch (TAC) for each target species, the sum of which must be within the optimum yield (OY) range of 116,000 to 800,000 metric tons (mt) (50 CFR 679.20(a)(1)(i)(B)). Section 679.20(c)(1) further requires NMFS to publish and solicit public comment on proposed annual TACs, Pacific halibut prohibited species catch (PSC) limits, and seasonal allowances of pollock and Pacific cod. Upon consideration of public comment received under § 679.20(c)(1), NMFS must publish notice of final harvest specifications for up to two fishing years as annual TACs, per § 679.20(c)(3)(ii). The final harvest specifications set forth in Tables 1 through 30 of this document reflect the outcome of this process, as required at § 679.20(c).

The proposed 2017 and 2018 harvest specifications for groundfish of the GOA and Pacific halibut PSC limits were published in the Federal Register on December 6, 2016 (81 FR 87881). Comments were invited and accepted through January 5, 2017. NMFS did not receive any comments on the proposed harvest specifications. In December 2016, NMFS consulted with the Council regarding the 2017 and 2018 harvest specifications. After considering public testimony, as well as biological and economic data that were available at the Council's December 2016 meeting, NMFS is implementing the final 2017 and 2018 harvest specifications, as recommended by the Council. For 2017, the sum of the TAC amounts is 535,863 mt. For 2018, the sum of the TAC amounts is 483,588 mt.

Other Actions Potentially Affecting the 2017 and 2018 Harvest Specifications

Amendment 103: Chinook Salmon Prohibited Species Catch Limit Reapportionment Provisions for Trawl Sectors in the Western and Central GOA

In December 2015, the Council recommended for Secretary of Commerce (Secretary) review Amendment 103 to the FMP to reapportion unused Chinook salmon PSC limits among the GOA pollock and non-pollock trawl sectors. Amendment 103 allows NMFS to reapportion the Chinook salmon PSC limits established by Amendments 93 and 97 to the FMP to prevent or limit fishery closures due to attainment of sector-specific Chinook salmon PSC limits, while maintaining the annual, combined 32,500 Chinook salmon PSC limit for all sectors. The Secretary approved Amendment 103 on August 24, 2016. The final rule implementing Amendment 103 published on September 12, 2016, (81 FR 62659) and became effective on October 12, 2016.

Amendment 101: Authorize Longline Pot Gear for Use in the Sablefish IFQ Fishery in the GOA

In April 2015, the Council recommended for Secretarial review Amendment 101 to the FMP for the sablefish individual fishing quota (IFQ) fisheries in the GOA. Amendment 101 authorizes the use of longline pot gear in the GOA sablefish IFQ fishery. The objective of that amendment is to increase efficiency in harvesting sablefish IFQ and decrease the depredation of sablefish caught on hook-and-line gear by whales. The Secretary approved Amendment 101 on November 4, 2016. NMFS issued a final rule to implement Amendment 101 to the FMP for the sablefish individual fishing quota (IFQ) fisheries in the GOA on December 28, 2016 (81 FR 95435). The effective date of this final rule has been temporarily stayed in accordance with the memorandum of January 20, 2017, from the Assistant to the President and Chief of Staff, entitled “Regulatory Freeze Pending Review,” published in the Federal Register on January 24, 2017. While the effective date of the final rule is currently delayed (see 82 FR 8810, January 31, 2017), NMFS advises the public that the date of the stay, and therefore the effective date of the final rule, may change in the future.

Acceptable Biological Catch (ABC) and TAC Specifications

In December 2016, the Council, its Advisory Panel (AP), and its Scientific and Statistical Committee (SSC) reviewed the most recent biological and harvest information about the condition of groundfish stocks in the GOA. This information was compiled by the Council's GOA Groundfish Plan Team and was presented in the draft 2016 SAFE report for the GOA groundfish fisheries, dated November 2016 (see ADDRESSES). The SAFE report contains a review of the latest scientific analyses and estimates of each species' biomass and other biological parameters, as well as summaries of the available information on the GOA ecosystem and the economic condition of the groundfish fisheries off Alaska. From these data and analyses, the Plan Team estimates an overfishing level (OFL) and ABC for each species or species group. The 2016 report was made available for public review during the public comment period for the proposed harvest specifications.

In previous years, the greatest changes from the proposed to the final harvest specifications have been based on recent NMFS stock surveys, which provide updated estimates of stock biomass and spatial distribution, and changes to the models used for producing stock assessments. At the November 2016 Plan Team meeting, NMFS scientists presented updated and new survey results, changes to stock assessment models, and accompanying stock assessment estimates for all groundfish species and species groups that are included in the final 2016 SAFE report. The SSC reviewed this information at the December 2016 Council meeting. Changes from the proposed to the final 2017 and 2018 harvest specifications are discussed below.

The final 2017 and 2018 OFLs, ABCs, and TACs are based on the best available biological and socioeconomic information, including projected biomass trends, information on assumed distribution of stock biomass, and revised methods used to calculate stock biomass. The FMP specifies the formulas, or tiers, to be used to compute OFLs and ABCs. The formulas applicable to a particular stock or stock complex are determined by the level of reliable information available to fisheries scientists. This information is categorized into a successive series of six tiers to define OFL and ABC amounts, with Tier 1 representing the highest level of information quality available and Tier 6 representing the lowest level of information quality available. The Plan Team used the FMP tier structure to calculate OFL and ABC amounts for each groundfish species. The SSC adopted the final 2017 and 2018 OFLs and ABCs recommended by the Plan Team for all groundfish species, with the exception of an adjustment to the sablefish OFLs. The Council adopted the SSC's OFL and ABC recommendations and the AP's TAC recommendations. The final TAC recommendations were based on the ABCs as adjusted for other biological and socioeconomic considerations, including maintaining the sum of all TACs within the required OY range of 116,000 to 800,000 mt.

The Council recommended 2017 and 2018 TACs that are equal to ABCs for pollock, sablefish, deep-water flatfish, rex sole, Pacific ocean perch, northern rockfish, shortraker rockfish, dusky rockfish, rougheye rockfish, demersal shelf rockfish, thornyhead rockfish, big skate, longnose skate, other skates, sculpins, sharks, squids, and octopuses in the GOA. The Council recommended TACs for 2017 and 2018 that are less than the ABCs for Pacific cod, shallow-water flatfish in the Western GOA, arrowtooth flounder, flathead sole in the Western and Central GOA, “other rockfish” in the Southeast Outside (SEO) District, and Atka mackerel. The Pacific cod TACs are set to accommodate the State of Alaska's (State's) guideline harvest levels (GHLs) for Pacific cod so that the ABCs are not exceeded. The shallow-water flatfish, arrowtooth flounder, and flathead sole TACs are set to allow for increased harvest opportunities for these target species while conserving the halibut PSC limit for use in other, more fully utilized fisheries. The “other rockfish” TAC in the SEO District is set to reduce the amount of discards of the species in that complex. The Atka mackerel TAC is set to accommodate incidental catch amounts in other fisheries.

The final 2017 and 2018 harvest specifications approved by the Secretary are unchanged from those recommended by the Council and are consistent with the preferred harvest strategy alternative in the EIS (see ADDRESSES). NMFS finds that the Council's recommended OFLs, ABCs, and TACs are consistent with the biological condition of the groundfish stocks as described in the final 2016 SAFE report. NMFS also finds that the Council's recommendations for OFLs, ABCs, and TACs are consistent with the biological condition of groundfish stocks as adjusted for other biological and socioeconomic considerations, including maintaining the total TAC within the OY range. NMFS reviewed the Council's recommended TAC specifications and apportionments, and NMFS approves these harvest specifications under 50 CFR 679.20(c)(3)(ii). The apportionment of TAC amounts among gear types and sectors, processing sectors, and seasons is discussed below.

Tables 1 and 2 list the final 2017 and 2018 OFLs, ABCs, TACs, and area apportionments of groundfish in the GOA. The sums of the 2017 and 2018 ABCs are 667,877 mt and 597,052 mt, respectively, which are lower in 2017 and 2018 than the 2016 ABC sum of 727,684 mt (81 FR 14740, March 18, 2016). The 2017 harvest specifications set in this final action will supersede the 2017 harvest specifications previously set in the final 2016 and 2017 harvest specifications (81 FR 14740, March 18, 2016). The 2018 harvest specifications herein will be superseded in early 2018 when the final 2018 and 2019 harvest specifications are published. Pursuant to this final action, the 2017 harvest specifications therefore will apply for the remainder of the current year (2017), while the 2018 harvest specifications are projected only for the following year (2018) and will be superseded in early 2018 by the final 2018 and 2019 harvest specifications. Because this final action (published in early 2017) will be superseded in early 2018 by the publication of the final 2018 and 2019 harvest specifications, it is projected that this final action will implement the harvest specifications for the Gulf of Alaska for approximately one year.

Specification and Apportionment of TAC Amounts

NMFS' apportionment of groundfish species is based on the distribution of biomass among the regulatory areas over which NMFS manages the species. Additional regulations govern the apportionment of pollock, Pacific cod, and sablefish. Additional detail on the apportionment of pollock, Pacific cod, and sablefish are described below.

The ABC for the pollock stock in the combined Western, Central, and West Yakutat Regulatory Areas (W/C/WYK) includes the amount for the GHL established by the State for the Prince William Sound (PWS) pollock fishery. The Plan Team, SSC, AP, and Council have recommended that the sum of all State and Federal water pollock removals from the GOA not exceed ABC recommendations. For 2017 and 2018, the SSC recommended and the Council approved the W/C/WYK pollock ABC, including the amount to account for the State's PWS GHL. At the November 2016 Plan Team meeting, State fisheries managers recommended setting the PWS GHL at 2.5 percent of the annual W/C/WYK pollock ABC. For 2017, this yields a PWS pollock GHL of 5,094 mt, a decrease of 1,264 mt from the 2016 PWS GHL of 6,358 mt. For 2018, the PWS pollock GHL is 3,937 mt, a decrease of 2,421 mt from the 2016 PWS pollock GHL. After the GHL reductions, the 2017 and 2018 pollock ABC for the combined W/C/WYK areas is then apportioned between four statistical areas (Areas 610, 620, 630, and 640) as both ABCs and TACs, as described below and detailed in Tables 1 and 2. The total ABCs and TACs for the four statistical areas, plus the State GHL, do not exceed the combined W/C/WYK ABC.

Apportionments of pollock to the W/C/WYK management areas are considered to be “apportionments of annual catch limits (ACLs)” rather than “ABCs.” This more accurately reflects that such apportionments address management, rather than biological or conservation, concerns. In addition, apportionments of the ACL in this manner allow NMFS to balance any transfer of TAC from one area to another pursuant to § 679.20(a)(5)(iv)(B) to ensure that the area-wide ACL and ABC are not exceeded.

NMFS establishes pollock TACs in the Western, Central, West Yakutat Regulatory Areas, and the Southeast Outside District of the GOA (see Tables 1 and 2). NMFS also establishes seasonal apportionments of the annual pollock TAC in the Western and Central Regulatory Areas of the GOA among Statistical Areas 610, 620, and 630. These apportionments are divided equally among each of the following four seasons: The A season (January 20 through March 10), the B season (March 10 through May 31), the C season (August 25 through October 1), and the D season (October 1 through November 1) (§ 679.23(d)(2)(i) through (iv), and § 679.20(a)(5)(iv)(A) and (B)). Additional detail is provided below; Tables 3 and 4 list these amounts.

The 2017 and 2018 Pacific cod TACs are set to accommodate the State's GHL for Pacific cod in State waters in the Western and Central Regulatory Areas, as well as in PWS. The Plan Team, SSC, AP, and Council recommended that the sum of all State and Federal water Pacific cod removals from the GOA not exceed ABC recommendations. Accordingly, the Council set the 2017 and 2018 Pacific cod TACs in the Western, Central, and Eastern Regulatory Areas to account for State GHLs. Therefore, the 2017 Pacific cod TACs are less than the ABCs by the following amounts: (1) Western GOA, 10,887 mt; (2) Central GOA, 11,045 mt; and (3) Eastern GOA, 1,968 mt. The 2018 Pacific cod TACs are less than the ABCs by the following amounts: (1) Western GOA, 9,770 mt; (2) Central GOA, 9,911 mt; and (3) Eastern GOA, 1,766 mt. These amounts reflect the State's 2017 and 2018 GHLs in these areas, which are 30 percent of the Western GOA ABC and 25 percent of the Eastern and Central ABCs.

NMFS establishes seasonal apportionments of the annual Pacific cod TAC in the Western and Central Regulatory Areas. Sixty percent of the annual TAC is apportioned to the A season for hook-and-line, pot, and jig gear from January 1 through June 10, and for trawl gear from January 20 through June 10. Forty percent of the annual TAC is apportioned to the B season for hook-and-line, pot, and jig gear from September 1 through December 31, and for trawl gear from September 1 through November 1 (§§ 679.23(d)(3) and 679.20(a)(12)). The Western and Central GOA Pacific cod TACs are allocated among various gear and operational sectors. The Pacific cod sector apportionments are discussed in detail in a subsequent section of this preamble.

The Council's recommendation for sablefish area apportionments takes into account the prohibition on the use of trawl gear in the SEO District of the Eastern Regulatory Area and makes available 5 percent of the combined Eastern Regulatory Area ABCs to trawl gear for use as incidental catch in other groundfish fisheries in the WYK District (§ 679.20(a)(4)(i)). Tables 7 and 8 list the final 2017 and 2018 allocations of sablefish TAC to hook-and-line and trawl gear in the GOA.

Changes From the Proposed 2017 and 2018 Harvest Specifications in the GOA

In October 2016, the Council's recommendations for the proposed 2017 and 2018 harvest specifications (81 FR 87881, December 6, 2016) were based largely on information contained in the final 2015 SAFE report for the GOA groundfish fisheries, dated November 2015. The final 2015 SAFE report for the GOA is available from the Council (see ADDRESSES). The Council proposed that the final OFLs, ABCs, and TACs established for the 2017 groundfish fisheries (81 FR 14740, March 18, 2016) be used for the proposed 2017 and 2018 harvest specifications, pending completion and review of the final 2016 SAFE report at its December 2016 meeting.

As described previously, the SSC adopted the final 2017 and 2018 OFLs and ABCs recommended by the Plan Team, except for the sablefish OFL. The SSC deducted the amount calculated for whale depredation from the sablefish OFL. The Council adopted the SSC's OFL and ABC recommendations and the AP's TAC recommendations for 2017 and 2018. The final 2017 ABCs are higher than the proposed 2017 ABCs published in the proposed 2017 and 2018 harvest specifications (81 FR 87881, December 6, 2016) for Pacific cod, sablefish, shallow-water flatfish, deep-water flatfish, rex sole, flathead sole, northern rockfish, and rougheye rockfish. The final 2017 ABCs are lower than the proposed 2017 and 2018 ABCs for pollock, arrowtooth flounder, Pacific ocean perch, dusky rockfish, demersal shelf rockfish, and squids.

The final 2018 ABCs are higher than the proposed ABCs for sablefish, shallow-water flatfish, deep-water flatfish, rex sole, and flathead sole. The final 2018 ABCs are lower than the proposed ABCs for pollock, Pacific cod, arrowtooth flounder, Pacific ocean perch, northern rockfish, dusky rockfish, rougheye rockfish, demersal shelf rockfish, and squids. For the remaining target species, the Council recommended the final 2017 and 2018 ABCs that are the same as the proposed 2017 and 2018 ABCs.

Additional information explaining the changes between the proposed and final ABCs is included in the final 2016 SAFE report, which was not available when the Council made its proposed ABC and TAC recommendations in October 2016. At that time, the most recent stock assessment information was contained in the final 2015 SAFE report. The final 2016 SAFE report contains the best and most recent scientific information on the condition of the groundfish stocks, as previously discussed in this preamble, and is available for review (see ADDRESSES). The Council considered the final 2016 SAFE report in December 2016 when it made recommendations for the final 2017 and 2018 harvest specifications. In the GOA, the total final 2017 TAC amount is 535,863 mt, a decrease of 7 percent from the total proposed 2017 TAC amount of 573,872 mt. The total final 2018 TAC amount is 483,588 mt, a decrease of 16 percent from the total proposed 2018 TAC amount of 573,872 mt. Table 1a summarizes the difference between the proposed and final TACs. Annual stock assessments incorporate a variety of new or revised inputs, such as survey data or catch information, as well as changes to the statistical models used to estimate a species' biomass and population trend. In 2016, most stocks were not directly surveyed, as the GOA trawl survey is conducted every other year. Thus, most changes to biomass and ABC estimates are based on fishery catch updates to species' assessment models. Some species, such as pollock and sablefish, have additional surveys conducted on an annual basis, which result in additional data being available for the assessments for these stocks.

Based on changes in the estimates of overall biomass made by stock assessment scientists for 2017 and 2018, as compared to the estimates previously made for 2015 and 2016, the greatest TAC percentage increases are for sablefish, shallow-water flatfish, rex sole, and Atka mackerel. One notable increase includes that made for sablefish. The increase in the sablefish ABC and TAC is a result of the inclusion of new catch, abundance, and age datasets, as well as adjustments to the sablefish assessment model. Another notable increase between the proposed and final TACs includes the 2017 and 2018 TACs for Atka mackerel, which increased because of public interest in additional opportunities to catch and retain Atka mackerel. The AP recommended, and the Council adopted, this increase.

Based on changes in the estimates of biomass, the greatest decrease in TACs is for pollock. The pollock assessment model incorporated 2016 survey data, as well as changes to the model. A notable model change included using a random-effects model to calculate the weight-at-age of pollock, rather than a 5-year average weight-at-age. This change resulted in a downward calculation of biomass and ABC, with additional declines expected in the short-term.

For all other species and species groups, changes from the proposed 2017 TACs to the final 2017 TACs are within a range of plus or minus 4 percent. The changes from the proposed 2018 TACs to the final 2018 TACs are within a range of plus or minus 8 percent. These TAC changes correspond to associated changes in the ABCs and TACs, as recommended by the SSC, AP, and Council.

Detailed information providing the basis for the changes described above is contained in the final 2016 SAFE report. The final TACs are based on the best scientific information available. These TACs are specified in compliance with the harvest strategy described in the proposed and final rules for the 2017 and 2018 harvest specifications. The changes in TACs between the proposed rule and this final rule are compared in Table 1a.

Table 1a—Comparison of Proposed and Final 2017 and 2018 GOA Total Allowable Catch Limits
[Values are rounded to the nearest metric ton and percentage]
Species | 2017 and 2018 proposed TAC | 2017 Final TAC | 2017 Final minus 2017 proposed TAC | Percentage difference | 2018 Final TAC | 2018 Final minus 2018 proposed TAC | Percentage difference
Pollock | 254,200 | 208,595 | −45,605 | −18 | 163,479 | −90,721 | −36
Pacific cod | 62,150 | 64,442 | 2,292 | 4 | 57,825 | −4,325 | −7
Sablefish | 8,307 | 10,074 | 1,767 | 21 | 10,207 | 1,900 | 23
Shallow-water flatfish | 34,855 | 36,843 | 1,988 | 6 | 36,979 | 2,124 | 6
Deep-water flatfish | 9,281 | 9,292 | 11 | 0 | 9,382 | 101 | 1
Rex sole | 7,507 | 8,311 | 804 | 11 | 8,421 | 914 | 12
Arrowtooth flounder | 103,300 | 103,300 | 0 | 0 | 103,300 | 0 | 0
Flathead sole | 27,850 | 27,856 | 6 | 0 | 27,920 | 70 | 0
Pacific ocean perch | 24,189 | 23,918 | −271 | −1 | 23,454 | −735 | −3
Northern rockfish | 3,768 | 3,786 | 18 | 0 | 3,508 | −260 | −7
Shortraker rockfish | 1286 | 1,286 | 0 | 0 | 1286 | 0 | 0
Dusky rockfish | 4,284 | 4,278 | −6 | 0 | 3,954 | −330 | −8
Rougheye rockfish | 1,325 | 1,327 | 2 | 0 | 1,318 | −7 | −1
Demersal shelf rockfish | 231 | 227 | −4 | −2 | 227 | −4 | −2
Thornyhead rockfish | 1,961 | 1,961 | 0 | 0 | 1,961 | 0 | 0
Other rockfish | 2,308 | 2,308 | 0 | 0 | 2,308 | 0 | 0
Atka mackerel | 2,000 | 3,000 | 1,000 | 50 | 3,000 | 1,000 | 50
Big skate | 3,814 | 3,814 | 0 | 0 | 3,814 | 0 | 0
Longnose skate | 3,206 | 3,206 | 0 | 0 | 3,206 | 0 | 0
Other skates | 1,919 | 1,919 | 0 | 0 | 1,919 | 0 | 0
Sculpins | 5,591 | 5,591 | 0 | 0 | 5,591 | 0 | 0
Sharks | 4,514 | 4,514 | 0 | 0 | 4,514 | 0 | 0
Squids | 1,148 | 1,137 | −11 | −1 | 1,137 | −11 | −1
Octopuses | 4,878 | 4,878 | 0 | 0 | 4,878 | 0 | 0
Total | 573,872 | 535,863 | −38,009 | −7 | 483,588 | −90,284 | −16

The final 2017 and 2018 TAC recommendations for the GOA are within the OY range established for the GOA and do not exceed the ABC for any species or species group. Tables 1 and 2 list the final OFL, ABC, and TAC amounts for GOA groundfish for 2017 and 2018, respectively.

Table 1—Final 2017 OFLs, ABCs, and TACs of Groundfish for the Western/Central/West Yakutat, Western, Central, Eastern Regulatory Areas, and in the West Yakutat, Southeast Outside, and Gulfwide Districts of the Gulf of Alaska
[Values are rounded to the nearest metric ton]
Species | Area ¹ | OFL | ABC | TAC
Pollock ² | Shumagin (610) | n/a | 43,602 | 43,602
| Chirikof (620) | n/a | 98,652 | 98,652
| Kodiak (630) | n/a | 48,929 | 48,929
| WYK (640) | n/a | 7,492 | 7,492
| W/C/WYK (subtotal) ² | 235,807 | 203,769 | 198,675
| SEO (650) | 13,226 | 9,920 | 9,920
| Total | 249,033 | 213,689 | 208,595
Pacific cod ³ | W | n/a | 36,291 | 25,404
| C | n/a | 44,180 | 33,135
| E | n/a | 7,871 | 5,903
| Total | 105,378 | 88,342 | 64,442
Sablefish ⁴ | W | n/a | 1,349 | 1,349
| C | n/a | 4,514 | 4,514
| WYK | n/a | 1,605 | 1,605
| SEO | n/a | 2,606 | 2,606
| E (WYK and SEO) (subtotal) | n/a | 4,211 | 4,211
| Total | 11,885 | 10,074 | 10,074
Shallow-water flatfish ⁵ | W | n/a | 20,921 | 13,250
| C | n/a | 19,306 | 19,306
| WYK | n/a | 3,188 | 3,188
| SEO | n/a | 1,099 | 1,099
| Total | 54,583 | 44,514 | 36,843
Deep-water flatfish ⁶ | W | n/a | 256 | 256
| C | n/a | 3,454 | 3,454
| WYK | n/a | 3,017 | 3,017
| SEO | n/a | 2,565 | 2,565
| Total | 11,182 | 9,292 | 9,292
Rex sole | W | n/a | 1,459 | 1,459
| C | n/a | 4,930 | 4,930
| WYK | n/a | 850 | 850
| SEO | n/a | 1,072 | 1,072
| Total | 10,860 | 8,311 | 8,311
Arrowtooth flounder | W | n/a | 28,100 | 14,500
| C | n/a | 107,934 | 75,000
| WYK | n/a | 37,405 | 6,900
| SEO |  | 12,654 | 6,900
| Total | 219,327 | 186,093 | 103,300
Flathead sole | W | n/a | 11,098 | 8,650
| C | n/a | 20,339 | 15,400
| WYK | n/a | 2,949 | 2,949
| SEO | n/a | 857 | 857
| Total | 43,128 | 35,243 | 27,856
Pacific ocean perch ⁷ | W | n/a | 2,679 | 2,679
| C | n/a | 16,671 | 16,671
| WYK | n/a | 2,786 | 2,786
| W/C/WYK subtotal | 25,753 | 22,136 | 22,136
| SEO | 2,073 | 1,782 | 1,782
| Total | 27,826 | 23,918 | 23,918
Northern rockfish ⁸ | W | n/a | 432 | 432
| C | n/a | 3,354 | 3,354
| E | n/a | 4
| Total | 4,522 | 3,790 | 3,786
Shortraker rockfish ⁹ | W | n/a | 38 | 38
| C | n/a | 301 | 301
| E | n/a | 947 | 947
| Total | 1,715 | 1,286 | 1,286
Dusky rockfish ¹⁰ | W | n/a | 158 | 158
| C | n/a | 3,786 | 3,786
| WYK | n/a | 251 | 251
| SEO | n/a | 83 | 83
| Total | 5,233 | 4,278 | 4,278
Rougheye and Blackspotted rockfish ¹¹ | W | n/a | 105 | 105
| C | n/a | 706 | 706
| E | n/a | 516 | 516
| Total | 1,594 | 1,327 | 1,327
Demersal shelf rockfish ¹² | SEO | 357 | 227 | 227
Thornyhead rockfish | W | n/a | 291 | 291
| C | n/a | 988 | 988
| E | n/a | 682 | 682
| Total | 2,615 | 1,961 | 1,961
Other rockfish 13 14 | W and C | n/a | 1,534 | 1,534
| WYK | n/a | 574 | 574
| SEO | n/a | 3,665 | 200
| Total | 7,424 | 5,773 | 2,308
Atka mackerel | GW | 6,200 | 4,700 | 3,000
Big skate ¹⁵ | W | n/a | 908 | 908
| C | n/a | 1,850 | 1,850
| E | n/a | 1,056 | 1,056
| Total | 5,086 | 3,814 | 3,814
Longnose skate ¹⁶ | W | n/a | 61 | 61
| C | n/a | 2,513 | 2,513
| E | n/a | 632 | 632
| Total | 4,274 | 3,206 | 3,206
Other skates ¹⁷ | GW | 2,558 | 1,919 | 1,919
Sculpins | GW | 7,338 | 5,591 | 5,591
Sharks | GW | 6,020 | 4,514 | 4,514
Squids | GW | 1,516 | 1,137 | 1,137
Octopus | GW | 6,504 | 4,878 | 4,878
Total |  | 796,158 | 667,877 | 535,863
¹ Regulatory areas and districts are defined at § 679.2. (W=Western Gulf of Alaska; C=Central Gulf of Alaska; E=Eastern Gulf of Alaska; WYK=West Yakutat District; SEO=Southeast Outside District; GW=Gulf-wide).
² The total for the W/C/WYK Regulatory Areas pollock ABC is 203,769 mt. After deducting 2.5 percent (5,094 mt) of that ABC for the State's pollock GHL fishery, the remaining pollock ABC of 198,675 mt (for the W/C/WYK Regulatory Areas) is apportioned among four statistical areas (Areas 610, 620, 630, and 640). These apportionments are considered subarea ACLs, rather than ABCs, for specification and reapportionment purposes. The ACLs in Areas 610, 620, and 630 are further divided by season, as detailed in Table 3. In the West Yakutat (Area 640) and Southeast Outside (Area 650) Districts of the Eastern Regulatory Area, pollock is not divided into seasonal allowances.
³ The annual Pacific cod TAC is apportioned 60 percent to the A season and 40 percent to the B season in the Western and Central Regulatory Areas of the GOA. Pacific cod in the Eastern Regulatory Area is allocated 90 percent for processing by the inshore component and 10 percent for processing by the offshore component. Table 5 lists the final 2017 Pacific cod seasonal apportionments.
⁴ Sablefish is allocated to trawl and hook-and-line gear in 2017. Table 7 lists the final 2017 allocations of sablefish TACs.
⁵ “Shallow-water flatfish” means flatfish not including “deep-water flatfish,” flathead sole, rex sole, or arrowtooth flounder.
⁶ “Deep-water flatfish” means Dover sole, Greenland turbot, Kamchatka flounder, and deepsea sole.
⁷ “Pacific ocean perch” means Sebastes alutus.
⁸ “Northern rockfish” means Sebastes polyspinis. For management purposes the 4 mt apportionment of ABC to the WYK District of the Eastern Gulf of Alaska has been included in the “other rockfish” species group.
⁹ “Shortraker rockfish” means Sebastes borealis.
¹⁰ “Dusky rockfish” means Sebastes variabilis.
¹¹ “Rougheye rockfish” means Sebastes aleutianus (rougheye) and Sebastes melanostictus (blackspotted).
¹² “Demersal shelf rockfish” means Sebastes pinniger (canary), S. nebulosus (china), S. caurinus (copper), S. maliger (quillback), S. helvomaculatus (rosethorn), S. nigrocinctus (tiger), and S. ruberrimus (yelloweye).
¹³ “Other rockfish” means Sebastes aurora (aurora), S. melanostomus (blackgill), S. paucispinis (bocaccio), S. goodei (chilipepper), S. crameri (darkblotch), S. elongatus (greenstriped), S. variegatus (harlequin), S. wilsoni (pygmy), S. babcocki (redbanded), S. proriger (redstripe), S. zacentrus (sharpchin), S. jordani (shortbelly), S. brevispinis (silvergrey), S. diploproa (splitnose), S. saxicola (stripetail), S. miniatus (vermilion), S. reedi (yellowmouth), S. entomelas (widow), and S. flavidus (yellowtail). In the Eastern GOA only, other rockfish also includes northern rockfish, S. polyspinis.
¹⁴ “Other rockfish” in the Western and Central Regulatory Areas and in the West Yakutat District means other rockfish and demersal shelf rockfish. The “other rockfish” species group in the SEO District only includes other rockfish.
¹⁵ “Big skate” means Raja binoculata.
¹⁶ “Longnose skate” means Raja rhina.
¹⁷ “Other skates” means Bathyraja spp.

Table 2—Final 2018 OFLs, ABCs, and TACs of Groundfish for the Western/Central/West Yakutat, Western, Central, Eastern Regulatory Areas, and in the West Yakutat, Southeast Outside, and Gulfwide Districts of the Gulf of Alaska
[Values are rounded to the nearest metric ton]
Species | Area ¹ | OFL | ABC | TAC
Pollock ² | Shumagin (610) | n/a | 33,701 | 33,701
| Chirikof (620) | n/a | 76,249 | 76,249
| Kodiak (630) | n/a | 37,818 | 37,818
| WYK (640) | n/a | 5,791 | 5,791
| W/C/WYK (subtotal) ² | 182,204 | 157,496 | 153,559
| SEO (650) | 13,226 | 9,920 | 9,920
| Total | 195,430 | 167,416 | 163,479
Pacific cod ³ | W | n/a | 32,565 | 22,795
| C | n/a | 39,644 | 29,733
| E | n/a | 7,063 | 5,297
| Total | 94,188 | 79,272 | 57,825
Sablefish ⁴ | W | n/a | 1,367 | 1,367
| C | n/a | 4,574 | 4,574
| WYK | n/a | 1,626 | 1,626
| SEO | n/a | 2,640 | 2,640
| E (WYK and SEO) (subtotal) | n/a | 4,266 | 4,266
| Total | 12,045 | 10,207 | 10,207
Shallow-water flatfish ⁵ | W | n/a | 21,042 | 13,250
| C | n/a | 19,418 | 19,418
| WYK | n/a | 3,206 | 3,206
| SEO | n/a | 1,105 | 1,105
| Total | 54,893 | 44,771 | 36,979
Deep-water flatfish ⁶ | W | n/a | 257 | 257
| C | n/a | 3,488 | 3,488
| WYK | n/a | 3,047 | 3,047
| SEO | n/a | 2,590 | 2,590
| Total | 11,290 | 9,382 | 9,382
Rex sole | W | n/a | 1,478 | 1,478
| C | n/a | 4,995 | 4,995
| WYK | n/a | 861 | 861
| SEO | n/a | 1,087 | 1,087
| Total | 11,004 | 8,421 | 8,421
Arrowtooth flounder | W | n/a | 25,747 | 14,500
| C | n/a | 98,895 | 75,000
| WYK | n/a | 34,273 | 6,900
| SEO | n/a | 11,595 | 6,900
| Total | 196,635 | 170,510 | 103,300
Flathead sole | W | n/a | 11,282 | 8,650
| C | n/a | 20,677 | 15,400
| WYK | n/a | 2,998 | 2,998
| SEO | n/a | 872 | 872
| Total | 43,872 | 35,829 | 27,920
Pacific ocean perch ⁷ | W | n/a | 2,627 | 2,627
| C | n/a | 16,347 | 16,347
| WYK | n/a | 2,733 | 2,733
| W/C/WYK | 25,252 | 21,707 | 21,707
| SEO | 2,032 | 1,747 | 1,747
| Total | 27,284 | 23,454 | 23,454
Northern rockfish ⁸ | W | n/a | 400 | 400
| C | n/a | 3,108 | 3,108
| E | n/a | 4 |
| Total | 4,175 | 3,512 | 3,508
Shortraker rockfish ⁹ | W | n/a | 38 | 38
| C | n/a | 301 | 301
| E | n/a | 947 | 947
| Total | 1,715 | 1,286 | 1,286
Dusky rockfish ¹⁰ | W | n/a | 146 | 146
| C | n/a | 3,499 | 3,499
| WYK | n/a | 232 | 232
| SEO | n/a | 77 | 77
| Total | 4,837 | 3,954 | 3,954
Rougheye and Blackspotted rockfish ¹¹ | W | n/a | 104 | 104
| C | n/a | 702 | 702
| E | n/a | 512 | 512
| Total | 1,583 | 1,318 | 1,318
Demersal shelf rockfish ¹² | SEO | 357 | 227 | 227
Thornyhead rockfish | W | n/a | 291 | 291
| C | n/a | 988 | 988
| E | n/a | 682 | 682
| Total | 2,615 | 1,961 | 1,961
Other rockfish 13 14 | W and C | n/a | 1,534 | 1,534
| WYK | n/a | 574 | 574
| SEO | n/a | 3,665 | 200
| Total | 7,424 | 5,773 | 2,308
Atka mackerel | GW | 6,200 | 4,700 | 3,000
Big skate ¹⁵ | W | n/a | 908 | 908
| C | n/a | 1,850 | 1,850
| E | n/a | 1,056 | 1,056
| Total | 5,086 | 3,814 | 3,814
Longnose skate ¹⁶ | W | n/a | 61 | 61
| C | n/a | 2,513 | 2,513
| E | n/a | 632 | 632
| Total | 4,274 | 3,206 | 3,206
Other skates ¹⁷ | GW | 2,558 | 1,919 | 1,919
Sculpins | GW | 7,338 | 5,591 | 5,591
Sharks | GW | 6,020 | 4,514 | 4,514
Squids | GW | 1,516 | 1,137 | 1,137
Octopus | GW | 6,504 | 4,878 | 4,878
Total |  | 708,843 | 597,052 | 483,588
¹ Regulatory areas and districts are defined at § 679.2. (W=Western Gulf of Alaska; C=Central Gulf of Alaska; E=Eastern Gulf of Alaska; WYK=West Yakutat District; SEO=Southeast Outside District; GW=Gulf-wide).
² The total for the W/C/WYK Regulatory Areas pollock ABC is 157,496 mt. After deducting 2.5 percent (3,937 mt) of that ABC for the State's pollock GHL fishery, the remaining pollock ABC of 153,559 mt (for the W/C/WYK Regulatory Areas) is apportioned among four statistical areas (Areas 610, 620, 630, and 640). These apportionments are considered subarea ACLs, rather than ABCs, for specification and reapportionment purposes. The ACLs in Areas 610, 620, and 630 are further divided by season, as detailed in Table 3. In the West Yakutat (Area 640) and Southeast Outside (Area 650) Districts of the Eastern Regulatory Area, pollock is not divided into seasonal allowances.
³ The annual Pacific cod TAC is apportioned 60 percent to the A season and 40 percent to the B season in the Western and Central Regulatory Areas of the GOA. Pacific cod in the Eastern Regulatory Area is allocated 90 percent for processing by the inshore component and 10 percent for processing by the offshore component. Table 6 lists the final 2017 Pacific cod seasonal apportionments.
⁴ Sablefish is only allocated to trawl gear for 2018. Table 8 lists the final 2018 allocation of sablefish TACs to trawl gear.
⁵ “Shallow-water flatfish” means flatfish not including “deep-water flatfish,” flathead sole, rex sole, or arrowtooth flounder.
⁶ “Deep-water flatfish” means Dover sole, Greenland turbot, Kamchatka flounder, and deepsea sole.
⁷ “Pacific ocean perch” means Sebastes alutus.
⁸ “Northern rockfish” means Sebastes polyspinis. For management purposes the 4 mt apportionment of ABC to the WYK District of the Eastern Gulf of Alaska has been included in the “other rockfish” species group.
⁹ “Shortraker rockfish” means Sebastes borealis.
¹⁰ “Dusky rockfish” means Sebastes variabilis.
¹¹ “Rougheye rockfish” means Sebastes aleutianus (rougheye) and Sebastes melanostictus (blackspotted).
¹² “Demersal shelf rockfish” means Sebastes pinniger (canary), S. nebulosus (china), S. caurinus (copper), S. maliger (quillback), S. helvomaculatus (rosethorn), S. nigrocinctus (tiger), and S. ruberrimus (yelloweye).
¹³ “Other rockfish” means Sebastes aurora (aurora), S. melanostomus (blackgill), S. paucispinis (bocaccio), S. goodei (chilipepper), S. crameri (darkblotch), S. elongatus (greenstriped), S. variegatus (harlequin), S. wilsoni (pygmy), S. babcocki (redbanded), S. proriger (redstripe), S. zacentrus (sharpchin), S. jordani (shortbelly), S. brevispinis (silvergrey), S. diploproa (splitnose), S. saxicola (stripetail), S. miniatus (vermilion), S. reedi (yellowmouth), S. entomelas (widow), and S. flavidus (yellowtail). In the Eastern GOA only, other rockfish also includes northern rockfish, S. polyspinis.
¹⁴ “Other rockfish” in the Western and Central Regulatory Areas and in the West Yakutat District means other rockfish and demersal shelf rockfish. The “other rockfish” species group in the SEO District only includes other rockfish.
¹⁵ “Big skate” means Raja binoculata.
¹⁶ “Longnose skate” means Raja rhina.
¹⁷ “Other skates” means Bathyraja spp.

Apportionment of Reserves

Section 679.20(b)(2) requires NMFS to set aside 20 percent of each TAC for pollock, Pacific cod, flatfish, sculpins, sharks, squids, and octopuses in reserve for possible apportionment at a later date during the fishing year. For 2017 and 2018, NMFS proposed reapportionment of all the reserves in the proposed 2017 and 2018 harvest specifications published in the Federal Register on December 6, 2016 (81 FR 87881). NMFS did not receive any public comments on the proposed reapportionments. For the final 2017 and 2018 harvest specifications, NMFS reapportioned, as proposed, all the reserves for pollock, Pacific cod, flatfish, sculpins, sharks, squids, and octopuses back into the original TAC limit from which the reserve was derived. This was done because NMFS expects, based on recent harvest patterns, that such reserves are not necessary and the entire TAC for each of these species will be caught. The TACs listed in Tables 1 and 2 reflect reapportionments of reserve amounts to the original TAC limit for these species and species groups; i.e., each proposed TAC for the above mentioned species categories contains the full TAC recommended by the Council.

Apportionments of Pollock TAC Among Seasons and Regulatory Areas, and Allocations for Processing by Inshore and Offshore Components

In the GOA, pollock is apportioned by season and area, and is further allocated for processing by inshore and offshore components. Pursuant to § 679.20(a)(5)(iv)(B), the annual pollock TAC specified for the Western and Central Regulatory Areas of the GOA is apportioned into four equal seasonal allowances of 25 percent. As established by § 679.23(d)(2)(i) through (iv), the A, B, C, and D season allowances are available from January 20 to March 10, March 10 to May 31, August 25 to October 1, and October 1 to November 1, respectively.

Pollock TACs in the Western and Central Regulatory Areas of the GOA are apportioned among Statistical Areas 610, 620, and 630, pursuant to § 679.20(a)(5)(iv)(A). In the A and B seasons, the apportionments were in proportion to the distribution of pollock biomass based on the four most recent NMFS winter surveys. In the C and D seasons, the apportionments were in proportion to the distribution of pollock biomass based on the four most recent NMFS summer surveys. For 2017 and 2018, the Council recommended, and NMFS approved, following the apportionment methodology, which was used previously for the 2016 and 2017 harvest specifications. This methodology averages the winter and summer distribution of pollock in the Central Regulatory Area for the A season instead of using the distribution based on only the winter surveys. The average is intended to reflect the best available information about migration patterns, distribution of pollock, and the performance of the fishery in the area during the A season for the 2017 and 2018 fishing years. For the A season, the apportionment is based on an adjusted estimate of the relative distribution of pollock biomass of approximately 5 percent, 72 percent, and 23 percent in Statistical Areas 610, 620, and 630, respectively. For the B season, the apportionment is based on the relative distribution of pollock biomass at 5 percent, 82 percent, and 13 percent in Statistical Areas 610, 620, and 630, respectively. For the C and D seasons, the apportionment is based on the relative distribution of pollock biomass at 41 percent, 26 percent, and 33 percent in Statistical Areas 610, 620, and 630, respectively. The pollock chapter of the 2016 SAFE report (see ADDRESSES) contains a comprehensive description of the apportionment process and reasons for the minor changes from past apportionments.

Within any fishing year, the amount by which a seasonal allowance is underharvested or overharvested may be added to, or subtracted from, subsequent seasonal allowances for the Western and Central Regulatory Areas in a manner to be determined by the Regional Administrator (§ 679.20(a)(5)(iv)(B)). The rollover amount is limited to 20 percent of the subsequent seasonal apportionment for the statistical area. Any unharvested pollock above the 20-percent limit could be further distributed to the other statistical areas, in proportion to the estimated biomass in the subsequent season in those statistical areas and in an amount no more than 20 percent of the seasonal TAC apportionment for the statistical area (§ 679.20(a)(5)(iv)(B)). The pollock TACs in the WYK and SEO District of 7,492 mt and 9,920 mt, respectively, in 2017, and 5,791 mt and 9,920 mt, respectively, in 2018, are not allocated by season.

Section 679.20(a)(6)(i) requires the allocation of 100 percent of the pollock TAC in all regulatory areas and all seasonal allowances to vessels catching pollock for processing by the inshore component after subtraction of amounts projected by the Regional Administrator to be caught by, or delivered to, the offshore component incidental to directed fishing for other groundfish species. Thus, the amount of pollock available for harvest by vessels harvesting pollock for processing by the offshore component is that amount that will be taken as incidental catch during directed fishing for groundfish species other than pollock, up to the maximum retainable amounts allowed by § 679.20(e) and (f). At this time, these incidental catch amounts of pollock are unknown and will be determined during the fishing year during the course of fishing activities by the offshore component.

Tables 3 and 4 list the final 2017 and 2018 seasonal biomass distribution of pollock in the Western and Central Regulatory Areas, area apportionments, and seasonal allowances. The amounts of pollock for processing by the inshore and offshore components are not shown.

Table 3—Final 2017 Distribution of Pollock in the Western and Central Regulatory Areas of the GOA; Seasonal Biomass Distribution, Area Apportionments; and Seasonal Allowances of Annual TAC
[Values are rounded to the nearest metric ton and percentages are rounded to the nearest 0.01]
Season ¹ | Shumagin (area 610) |  | Chirikof (area 620) |  | Kodiak (area 630) |  | Total ²
A (Jan 20-Mar 10) | 2,232 | 4.67% | 34,549 | 72.29% | 11,014 | 23.04% | 47,796
B (Mar 10-May 31) | 2,232 | 4.67% | 39,420 | 82.48% | 6,143 | 12.85% | 47,796
C (Aug 25-Oct 1) | 19,569 | 40.94% | 12,341 | 25.82% | 15,886 | 33.24% | 47,796
D (Oct 1-Nov 1) | 19,569 | 40.94% | 12,341 | 25.82% | 15,886 | 33.24% | 47,796
Annual Total | 43,602 |  | 98,652 |  | 48,929 |  | 191,183
¹ As established by § 679.23(d)(2)(i) through (iv), the A, B, C, and D season allowances are available from January 20 to March 10, March 10 to May 31, August 25 to October 1, and October 1 to November 1, respectively. The amounts of pollock for processing by the inshore and offshore components are not shown in this table.
² The WYK and SEO District pollock TACs are not allocated by season and are not included in the total pollock TACs shown in this table.

Table 4—Final 2018 Distribution of Pollock in the Western and Central Regulatory Areas of the GOA; Seasonal Biomass Distribution, Area Apportionments; and Seasonal Allowances of Annual TAC
[Values are rounded to the nearest metric ton and percentages are rounded to the nearest 0.01]
Season ¹ | Shumagin (area 610) |  | Chirikof (area 620) |  | Kodiak (area 630) |  | Total ²
A (Jan 20-Mar 10) | 1,725 | 4.67% | 26,704 | 72.29% | 8,513 | 23.04% | 36,942
B (Mar 10-May 31) | 1,725 | 4.67% | 30,469 | 82.48% | 4,748 | 12.85% | 36,942
C (Aug 25-Oct 1) | 15,125 | 40.94% | 9,538 | 25.82% | 12,278 | 33.24% | 36,942
D (Oct 1-Nov 1) | 15,125 | 40.94% | 9,538 | 25.82% | 12,278 | 33.24% | 36,942
Annual Total | 33,701 |  | 76,249 |  | 37,818 |  | 147,768
¹ As established by § 679.23(d)(2)(i) through (iv), the A, B, C, and D season allowances are available from January 20 to March 10, March 10 to May 31, August 25 to October 1, and October 1 to November 1, respectively. The amounts of pollock for processing by the inshore and offshore components are not shown in this table.
² The WYK and SEO District pollock TACs are not allocated by season and are not included in the total pollock TACs shown in this table.

Annual and Seasonal Apportionments of Pacific Cod TAC

Pursuant to § 679.20(a)(12)(i), NMFS allocates the Pacific cod TACs in the Western and Central Regulatory Areas of the GOA among gear and operational sectors. NMFS also allocates the 2017 and 2018 Pacific cod TACs annually between the inshore (90 percent) and offshore (10 percent) components in the Eastern GOA (§ 679.20(a)(6)(ii)). In the Central GOA, the Pacific cod TAC is apportioned seasonally first to vessels using jig gear, and then among catcher vessels (CVs) less than 50 feet in length overall using hook-and-line gear, CVs equal to or greater than 50 feet in length overall using hook-and-line gear, catcher/processors (C/Ps) using hook-and-line gear, CVs using trawl gear, C/Ps using trawl gear, and vessels using pot gear (§ 679.20(a)(12)(i)(B)). In the Western GOA, the Pacific cod TAC is apportioned seasonally first to vessels using jig gear, and then among CVs using hook-and-line gear, C/Ps using hook-and-line gear, CVs using trawl gear, C/Ps using trawl gear, and vessels using pot gear (§ 679.20(a)(12)(i)(A)). The overall seasonal apportionments in the Western and Central GOA are 60 percent of the annual TAC to the A season and 40 percent of the annual TAC to the B season.

Under § 679.20(a)(12)(ii), any overage or underage of the Pacific cod allowance from the A season will be subtracted from, or added to, the subsequent B season allowance. In addition, any portion of the hook-and-line, trawl, pot, or jig sector allocations that NMFS determines is likely to go unharvested by a sector may be reapportioned to other sectors for harvest during the remainder of the fishery year in accordance with § 679.20(a)(12)(ii).

Pursuant to § 679.20(a)(12)(i)(A) and (B), a portion of the annual Pacific cod TACs in the Western and Central GOA will be allocated to vessels with a Federal Fisheries Permit (FFP) that use jig gear before TAC is apportioned among other non-jig sectors. In accordance with the FMP, the annual jig sector allocations may increase to up to 6 percent of the annual Western and Central GOA Pacific cod TACs, depending on the annual performance of the jig sector (see Table 1 of Amendment 83 to the FMP for a detailed discussion of the jig sector allocation process (76 FR 74670, December 1, 2011)). Jig sector allocation increases are established for a minimum of 2 years. NMFS has evaluated the 2016 harvest performance of the jig sector in the Western and Central GOA, and is establishing the 2017 and 2018 Pacific cod apportionments to this sector as follows.

NMFS allocates the jig sector 2.5 percent of the annual Pacific cod TAC in the Western GOA. This is a decrease from the 2016 jig sector allocation because in both 2015 and 2016 this sector harvested less than its initial annual allocation. The 2017 and 2018 allocations include a base allocation of 1.5 percent, and an additional 1.0 percent because this sector harvested greater than 90 percent of its initial 2014 annual allocation. Since 2012, the jig sector in the Western GOA has received two separate increases to its annual allocation, for a total of 3.5 percent. This percentage is decreased by 1 percent for 2017 and 2018 due to the jig sector's 2016 harvest performance, in which 5 percent of the Western GOA jig allocation was harvested. Annual jig sector allocation increases or decreases occur in 1 percent increments; so if the Western GOA jig sector catches less than 90 percent of its 2017 annual allocation, it will be subject to another 1 percent decrease in 2018.

NMFS allocates the jig sector 1.0 percent of the annual Pacific cod TAC in the Central GOA. This is the same percent as the 2016 jig sector allocation because in 2016 this sector harvested less than 90 percent of the initial 2016 allocation. The 2017 and 2018 allocations consist of a base allocation of 1.0 percent, and no additional performance increase in the Central GOA. Tables 5 and 6 list the seasonal apportionments and allocations of the 2017 and 2018 Pacific cod TACs.

Table 5—Final 2017 Seasonal Apportionments and Allocation of Pacific Cod Total Allowable Catch Amounts in the GOA; Allocations for the Western GOA and Central GOA Sectors and the Eastern GOA Inshore and Offshore Processing Components
[Values are rounded to the nearest metric ton and percentages to the nearest 0.01. Seasonal allowances may not total precisely to annual allocation amount]
Regulatory area and sector | Annual allocation (mt) | A season: Sector percentage of annual non-jig TAC | A season: Seasonal allowances (mt) | B season: Sector percentage of annual non-jig TAC | B season: Seasonal allowances (mt)
Western GOA:
Jig (2.5% of TAC) | 635 | N/A | 381 | N/A | 254
Hook-and-line CV | 347 | 0.70 | 173 | 0.70 | 173
Hook-and-line C/P | 4,904 | 10.90 | 2,700 | 8.90 | 2,204
Trawl CV | 9,511 | 27.70 | 6,861 | 10.70 | 2,650
Trawl C/P | 594 | 0.90 | 223 | 1.50 | 372
All Pot CV and Pot C/P | 9,412 | 19.80 | 4,904 | 18.20 | 4,508
Total | 25,404 | 60.00 | 15,242 | 40.00 | 10,161
Central GOA:
Jig (1.0% of TAC) | 331 | N/A | 199 | N/A | 133
Hook-and-line <50 CV | 4,790 | 9.32 | 3,056 | 5.29 | 1,734
Hook-and-line ≥50 CV | 2,200 | 5.61 | 1,840 | 1.10 | 360
Hook-and-line C/P | 1,674 | 4.11 | 1,347 | 1.00 | 327
Trawl CV ¹ | 13,641 | 21.14 | 6,933 | 20.45 | 6,708
Trawl C/P | 1,377 | 2.00 | 657 | 2.19 | 720
All Pot CV and Pot C/P | 9,121 | 17.83 | 5,849 | 9.97 | 3,272
Total | 33,135 | 60.00 | 19,881 | 40.00 | 13,254
Eastern GOA |  | Inshore (90% of Annual TAC) |  | Offshore (10% of Annual TAC)
| 5,903 | 5,313 |  | 590
¹ Trawl vessels participating in Rockfish Program cooperatives receive 3.81 percent, or 1,262 mt, of the annual Central GOA TAC (see Table 28c to 50 CFR part 679), which is deducted from the Trawl CV B season allowance (see Table 12).

Table 6—Final 2018 Seasonal Apportionments and Allocation of Pacific Cod Total Allowable Catch Amounts in the GOA; Allocations for the Western GOA and Central GOA Sectors and the Eastern GOA Inshore and Offshore Processing Components
[Values are rounded to the nearest metric ton and percentages to the nearest 0.01. Seasonal allowances may not total precisely to annual allocation amount]
Regulatory area and sector | Annual allocation (mt) | A season: Sector percentage of annual non-jig TAC | A season: Seasonal allowances (mt) | B season: Sector percentage of annual non-jig TAC | B season: Seasonal allowances (mt)
Western GOA:
Jig (2.5% of TAC) | 570 | N/A | 342 | N/A | 228
Hook-and-line CV | 311 | 0.70 | 156 | 0.70 | 156
Hook-and-line C/P | 4,400 | 10.90 | 2,422 | 8.90 | 1,978
Trawl CV | 8,534 | 27.70 | 6,156 | 10.70 | 2,378
Trawl C/P | 533 | 0.90 | 200 | 1.50 | 333
All Pot CV and Pot C/P | 8,445 | 19.80 | 4,400 | 18.20 | 4,045
Total | 22,795 | 60.00 | 13,677 | 40.00 | 9,118
Central GOA:
Jig (1.0% of TAC) | 297 | N/A | 178 | N/A | 119
Hook-and-line <50 CV | 4,298 | 9.32 | 2,742 | 5.29 | 1,556
Hook-and-line ≥50 CV | 1,974 | 5.61 | 1,651 | 1.10 | 323
Hook-and-line C/P | 1,502 | 4.11 | 1,209 | 1.00 | 294
Trawl CV ¹ | 12,241 | 21.14 | 6,221 | 20.45 | 6,019
Trawl C/P | 1,236 | 2.00 | 590 | 2.19 | 646
All Pot CV and Pot C/P | 8,185 | 17.83 | 5,248 | 9.97 | 2,936
Total | 29,733 | 60.00 | 17,840 | 40.00 | 11,893
Eastern GOA |  | Inshore (90% of Annual TAC) |  | Offshore (10% of Annual TAC)
| 5,297 | 4,768 |  | 530
¹ Trawl vessels participating in Rockfish Program cooperatives receive 3.81 percent, or 1,133 mt, of the annual Central GOA TAC (see Table 28c to 50 CFR part 679), which is deducted from the Trawl CV B season allowance (see Table 13).

Allocations of the Sablefish TACs Amounts to Vessels Using Hook-and-Line and Trawl Gear

Section 679.20(a)(4)(i) and (ii) require allocations of sablefish TACs for each of the regulatory areas and districts to hook-and-line and trawl gear. In the Western and Central Regulatory Areas, 80 percent of each TAC is allocated to hook-and-line gear, and 20 percent of each TAC is allocated to trawl gear. In the Eastern Regulatory Area, which is comprised of the WYK and SEO Districts, 95 percent of the TAC is allocated to hook-and-line gear, and 5 percent is allocated to trawl gear. The trawl gear allocation in the Eastern Regulatory Area may only be used to support incidental catch of sablefish in directed trawl fisheries for other target species (§ 679.20(a)(4)(i)).

In recognition of the prohibition against trawl gear in the SEO District of the Eastern Regulatory Area, the Council recommended and NMFS approves the allocation of 5 percent of the Eastern Regulatory Area sablefish TAC to trawl gear in the WYK District, making the remainder of the WYK sablefish TAC available to vessels using hook-and-line gear. NMFS allocates 100 percent of the sablefish TAC in the SEO District to vessels using hook-and-line gear. This action results in a 2017 allocation of 211 mt to trawl gear and 1,394 mt to hook-and-line gear in the WYK District, a 2017 allocation of 2,606 mt to hook-and-line gear in the SEO District, and a 2018 allocation of 213 mt to trawl gear in the WYK District. Table 7 lists the allocations of the 2017 sablefish TACs to hook-and-line and trawl gear. Table 8 lists the allocations of the 2018 sablefish TACs to trawl gear.

The Council recommended that a trawl sablefish TAC be established for two years so that retention of incidental catch of sablefish by trawl gear could commence in January in the second year of the groundfish harvest specifications. Both the 2017 and 2018 trawl allocations are specified in these final harvest specifications, in Tables 7 and 8, respectively.

The Council also recommended that the hook-and-line sablefish TAC be established annually to ensure that this IFQ fishery is conducted concurrently with the halibut IFQ fishery and is based on recent sablefish survey information. Since there is an annual assessment for sablefish and since the final harvest specifications are expected to be published before the IFQ season begins on March 11, 2017, the Council recommended that the hook-and-line sablefish TAC be set on an annual basis, rather than for two years, so that the best scientific information available could be considered in establishing the sablefish ABCs and TACs. Accordingly, while the 2017 hook-and-line allocations are specified in Table 7, the 2018 hook-and-line allocations will be specified in the 2018 and 2019 harvest specifications.

With the exception of the trawl allocations that were provided to the Central GOA Rockfish Program (Rockfish Program) cooperatives (see Table 28c to 50 CFR part 679), directed fishing for sablefish with trawl gear is closed during the fishing year. Also, fishing for groundfish with trawl gear is prohibited prior to January 20. Therefore, it is not likely that the sablefish allocation to trawl gear would be reached before the effective date of the final 2017 and 2018 harvest specifications.

Table 7—Final 2017 Sablefish TAC Specifications in the GOA and Allocations to
Hook-and-Line and Trawl Gear
[Values are rounded to the nearest metric ton]
Area/district | TAC | Hook-and-line allocation | Trawl allocation
Western | 1,349 | 1,079 | 270
Central | 4,514 | 3,611 | 903
West Yakutat¹ | 1,605 | 1,394 | 211
Southeast Outside | 2,606 | 2,606 | 0
Total | 10,074 | 8,691 | 1,383
¹ The trawl allocation is based on allocating 5 percent of the combined Eastern Regulatory Area (West Yakutat and Southeast Outside combined) sablefish TAC to trawl gear in the West Yakutat District.

Table 8—Final 2018 Sablefish TAC Specifications in the GOA and Allocation to Trawl Gear¹
[Values are rounded to the nearest metric ton]
Area/district | TAC | Hook-and-line allocation | Trawl allocation
Western | 1,367 | n/a | 273
Central | 4,574 | n/a | 915
West Yakutat ² | 1,626 | n/a | 213
Southeast Outside | 2,640 | n/a | 0
Total | 10,207 | n/a | 1,402
¹ The Council recommended that 2018 harvest specifications for the hook-and-line gear sablefish Individual Fishing Quota fisheries be specified in the final 2018 and 2019 harvest specifications.
² The trawl allocation is based on allocating 5 percent of the combined Eastern Regulatory Area (West Yakutat and Southeast Outside combined) sablefish TAC to trawl gear in the West Yakutat District.

Demersal Shelf Rockfish (DSR)

The recommended 2017 and 2018 DSR TAC is 227 mt, and management of DSR is delegated to the State. The Alaska Board of Fisheries has apportioned the annual SEO District DSR TACs between the commercial fishery (84 percent) and the sport fishery (16 percent) after deductions were made for anticipated subsistence harvests (7 mt). This results in 2017 and 2018 allocations of 185 mt to the commercial fishery and 35 mt to the sport fishery.

The State deducts estimates of incidental catch of DSR in the commercial halibut fishery and pre-season “test fishery” DSR mortality from the DSR commercial fishery allocation. In 2016, this resulted in 29 mt being available for the directed commercial DSR fishery apportioned in one DSR district. The State estimated that there was not sufficient DSR TAC available to have orderly fisheries in the three other DSR districts. DSR harvest in the halibut fishery is linked to the annual halibut catch limits; therefore, the State can only estimate potential DSR incidental catch because halibut catch limits are established by the International Pacific Halibut Commission (IPHC). Federally permitted CVs using hook-and-line or jig gear fishing for groundfish and Pacific halibut in the SEO District of the GOA are required to retain all DSR (§ 679.20(j)).

Apportionments to the Rockfish Program

These final 2017 and 2018 harvest specifications for the GOA include the fishery cooperative allocations and sideboard limitations established by the Rockfish Program. Program participants are primarily trawl CVs and trawl C/Ps, with limited participation by vessels using longline gear. The Rockfish Program assigns quota share and cooperative quota to participants for primary (Pacific ocean perch, northern rockfish, and dusky rockfish) and secondary species (Pacific cod, rougheye rockfish, sablefish, shortraker rockfish, and thornyhead rockfish); allows a participant holding a license limitation program (LLP) license with rockfish quota share to form a rockfish cooperative with other persons; and allows holders of C/P LLP licenses to opt out of the fishery. The Rockfish Program also has an entry level fishery for rockfish primary species for vessels using longline gear. Longline gear includes hook-and-line, jig, troll, and handline gear.

Under the Rockfish Program, rockfish primary species in the Central GOA are allocated to participants after deducting for incidental catch needs in other directed groundfish fisheries (§ 679.81(a)(2)). Participants in the Rockfish Program also receive a portion of the Central GOA TAC of specific secondary species. In addition to groundfish species, the Rockfish Program allocates a portion of the halibut PSC limit (191 mt) from the third season deep-water species fishery allowance for the GOA trawl fisheries to Rockfish Program participants (§ 679.81(d) and Table 28d to 50 CFR part 679). Rockfish Program sideboards and halibut PSC limits are discussed below.

Also, the Rockfish Program establishes sideboard limits to restrict the ability of harvesters operating under the Rockfish Program to increase their participation in other, non-Rockfish Program fisheries. These restrictions are discussed in a subsequent section titled “Rockfish Program Groundfish Sideboard and Halibut PSC Limitations.”

Section 679.81(a)(2)(ii) and Table 28e to 50 CFR part 679 requires allocations of 5 mt of Pacific ocean perch, 5 mt of northern rockfish, and 50 mt of dusky rockfish to the entry level longline fishery in 2017 and 2018. The allocation for the entry level longline fishery may increase incrementally each year if the catch exceeds 90 percent of the allocation of a species. The incremental increase in the allocation would continue each year until it is the maximum percent of the TAC for that species. In 2016, the dusky rockfish catch exceeded 90 percent of that species' allocation. Therefore, NMFS is increasing the entry level longline fishery 2017 and 2018 allocations of dusky rockfish to 50 mt in the Central GOA. The catch of the other two species, Pacific ocean perch and northern rockfish, did not attain the 90 percent threshold, and those allocations remain at 5 mt each. The remainder of the TACs for the rockfish primary species would be allocated to the CV and C/P cooperatives. Table 9 lists the allocations of the 2017 and 2018 TACs for each rockfish primary species to the entry level longline fishery, the incremental increase for future years, and the maximum percent of the TAC for the entry level longline fishery.

Table 9—Final 2017 and Initial 2018 Allocations of Rockfish Primary Species to the Entry Level Longline Fishery in the Central Gulf of Alaska
Rockfish primary species | 2017 and 2018 allocations | Incremental increase in 2018 if > 90% of 2017 allocation is harvested | Up to maximum % of TAC
Pacific ocean perch | 5 metric tons | 5 metric tons | 1
Northern rockfish | 5 metric tons | 5 metric tons | 2
Dusky rockfish | 50 metric tons | 20 metric tons | 5

Section 679.81(a)(2) requires allocations of the rockfish primary species among various sectors of the Rockfish Program. Tables 10 and 11 list the final 2017 and 2018 allocations of rockfish primary species in the Central GOA to the entry level longline fishery, and CV and C/P cooperatives in the Rockfish Program. NMFS also is setting aside incidental catch amounts (ICAs) for other directed fisheries in the Central GOA of 2,000 mt of Pacific ocean perch, 300 mt of northern rockfish, and 250 mt of dusky rockfish. These amounts are based on recent average incidental catches in the Central GOA by other groundfish fisheries.

Allocations among vessels belonging to CV or C/P cooperatives are not included in these final harvest specifications. Rockfish Program applications for CV cooperatives and C/P cooperatives are not due to NMFS until March 1 of each calendar year; therefore, NMFS cannot calculate 2017 and 2018 allocations in conjunction with these final harvest specifications. NMFS will post these allocations on the Alaska Region Web site at http://alaskafisheries.noaa.gov/fisheries/central-goa-rockfish-program when they become available after March 1.

Table 10—Final 2017 Allocations of Rockfish Primary Species in the Central Gulf of Alaska to the Entry Level Longline Fishery and Rockfish Cooperatives in the Rockfish Program
[Values are rounded to the nearest metric ton]
Rockfish primary species | TAC | Incidental catch allowance | TAC minus ICA | Allocation to the entry level longline ¹ fishery | Allocation to the rockfish cooperatives ²
Pacific ocean perch | 16,671 | 2,000 | 14,671 | 5 | 14,666
Northern rockfish | 3,354 | 300 | 3,054 | 5 | 3,049
Dusky rockfish | 3,786 | 250 | 3,536 | 50 | 3,486
Total | 23,811 | 2,550 | 21,261 | 60 | 21,201
¹ Longline gear includes hook-and-line, jig, troll, and handline gear.
² Rockfish cooperatives include vessels in CV and C/P cooperatives.

Table 11—Final 2018 Allocations of Rockfish Primary Species in the Central Gulf of Alaska to the Entry Level Longline Fishery and Rockfish Cooperatives in the Rockfish Program
[Values are rounded to the nearest metric ton]
Rockfish primary species | TAC | Incidental catch allowance | TAC minus ICA | Allocation to the entry level longline ¹ fishery | Allocation to the Rockfish cooperatives ²
Pacific ocean perch | 16,347 | 2,000 | 14,347 | 5 | 14,342
Northern rockfish | 3,108 | 300 | 2,808 | 5 | 2,803
Dusky rockfish | 3,499 | 250 | 3,249 | 50 | 3,199
Total | 22,954 | 2,550 | 20,404 | 60 | 20,344
¹ Longline gear includes hook-and-line, jig, troll, and handline gear.
² Rockfish cooperatives include vessels in CV and C/P cooperatives.

Section 679.81(c) and Table 28c to 50 CFR part 679 requires allocations of rockfish secondary species to CV andC/P cooperatives in the Central GOA. CV cooperatives receive allocations of Pacific cod, sablefish from the trawl gear allocation, and thornyhead rockfish. C/P cooperatives receive allocations of sablefish from the trawl allocation, rougheye rockfish, shortraker rockfish, and thornyhead rockfish. Tables 12 and 13 list the apportionments of the 2017 and 2018 TACs of rockfish secondary species in the Central GOA to CV and C/P cooperatives.

Table 12—Final 2017 Apportionments of Rockfish Secondary Species in the Central GOA to Catcher Vessel and Catcher/Processor Cooperatives
[Values are rounded to the nearest metric ton]
Rockfish secondary species | Annual Central GOA TAC | Catcher vessel cooperatives: Percentage of TAC | Catcher vessel cooperatives: Apportionment (mt) | Catcher/processor cooperatives: Percentage of TAC | Catcher/processor cooperatives: Apportionment (mt)
Pacific cod | 33,135 | 3.81 | 1,262 | 0.00 |
Sablefish | 4,514 | 6.78 | 306 | 3.51 | 158
Shortraker rockfish | 301 | 0.00 |  | 40.00 | 120
Rougheye rockfish | 706 | 0.00 |  | 58.87 | 416
Thornyhead rockfish | 988 | 7.84 | 77 | 26.50 | 262

Table 13—Final 2018 Apportionments of Rockfish Secondary Species in the Central GOA to Catcher Vessel and Catcher/Processor Cooperatives
[Values are rounded to the nearest metric ton]
Rockfish secondary species | Annual Central GOA TAC | Catcher vessel cooperatives: Percentage of TAC | Catcher vessel cooperatives: Apportionment (mt) | Catcher/processor cooperatives: Percentage of TAC | Catcher/processor cooperatives: Apportionment (mt)
Pacific cod | 29,733 | 3.81 | 1,133 | 0.00 |
Sablefish | 4,574 | 6.78 | 310 | 3.51 | 161
Shortraker rockfish | 301 | 0.00 |  | 40.00 | 120
Rougheye rockfish | 702 | 0.00 |  | 58.87 | 413
Thornyhead rockfish | 988 | 7.84 | 77 | 26.50 | 262

Halibut PSC Limits

Section 679.21(d) establishes the annual halibut PSC limit apportionments to trawl and hook-and-line gear, and authorizes the establishment of apportionments for pot gear. In December 2016, the Council recommended halibut PSC limits of 1,706 mt for trawl gear, 257 mt for hook-and-line gear, and 9 mt for the DSR fishery in the SEO District for both 2017 and 2018.

The DSR fishery in the SEO District is defined at § 679.21(d)(2)(ii)(A). This fishery is apportioned 9 mt of the halibut PSC limit in recognition of its small-scale harvests of groundfish (§ 679.21(d)(2)(i)(A)). NMFS estimates low halibut bycatch in the DSR fishery because (1) the duration of the DSR fisheries and the gear soak times are short, (2) the DSR fishery occurs in the winter when less overlap occurs in the distribution of DSR and halibut, and (3) the directed commercial DSR fishery has a low DSR TAC. The Alaska Department of Fish and Game sets the commercial GHL for the DSR fishery after deducting the following: (1) Estimates of DSR incidental catch in all fisheries (including halibut and subsistence); and (2) the allocation to the DSR sport fish fishery. Of the 231 mt TAC for DSR in 2016, 188 mt were available for the DSR commercial directed fishery, of which 8 mt were harvested.

The FMP authorizes the Council to exempt specific gear from the halibut PSC limits. NMFS, after consultation with the Council, exempts pot gear, jig gear, and the sablefish IFQ hook-and-line gear fishery categories from the non-trawl halibut PSC limit for 2017 and 2018. The Council recommended, and NMFS approves, these exemptions because: (1) The pot gear fisheries have low annual halibut bycatch mortality, (2) IFQ program regulations prohibit discard of halibut if any halibut IFQ permit holder on board a catcher vessel holds unused halibut IFQ (§ 679.7(f)(11)), (3) some sablefish IFQ fishermen hold halibut IFQ permits and are therefore required to retain the halibut they catch while fishing sablefish IFQ, and (4) NMFS estimates negligible halibut mortality for the jig gear fisheries. NMFS estimates that halibut mortality is negligible in the jig gear fisheries given the small amount of groundfish harvested by jig gear, the selective nature of jig gear, and the high survival rates of halibut caught and released with jig gear.

The best available information on estimated halibut bycatch consists of data collected by fisheries observers during 2016. The calculated halibut bycatch mortality through December 31, 2016, is 1,336 mt for trawl gear and 241 mt for hook-and-line gear for a total halibut mortality of 1,577 mt. This halibut mortality was calculated using groundfish and halibut catch data from the NMFS Alaska Region's catch accounting system. This accounting system contains historical and recent catch information compiled from each Alaska groundfish fishery.

Section 679.21(d)(4)(i) and (ii) authorizes NMFS to seasonally apportion the halibut PSC limits after consultation with the Council. The FMP and regulations require the Council and NMFS to consider the following information in seasonally apportioning halibut PSC limits: (1) Seasonal distribution of halibut; (2) seasonal distribution of target groundfish species relative to halibut distribution; (3) expected halibut bycatch needs on a seasonal basis relative to changes in halibut biomass and expected catch of target groundfish species; (4) expected bycatch rates on a seasonal basis; (5) expected changes in directed groundfish fishing seasons; (6) expected actual start of fishing effort; and (7) economic effects of establishing seasonal halibut allocations on segments of the target groundfish industry. The Council considered information from the 2016 SAFE report, NMFS catch data, State of Alaska catch data, IPHC stock assessment and mortality data, and public testimony when apportioning the halibut PSC limits. NMFS concurs with the Council's recommendations listed in Table 14, which show the final 2017 and 2018 Pacific halibut PSC limits, allowances, and apportionments.

Section 679.21(d)(4)(iii) and (iv) specify that any underages or overages of a seasonal apportionment of a PSC limit will be added to or deducted from the next respective seasonal apportionment within the fishing year.

Table 14—Final 2017 and 2018 Pacific Halibut PSC Limits, Allowances, and Apportionments
[Values are in metric tons]
Trawl gear: Season | Trawl gear: Percent | Trawl gear: Amount | Hook-and-line gear ¹: Other than DSR: Season | Hook-and-line gear ¹: Other than DSR: Percent | Hook-and-line gear ¹: Other than DSR: Amount | Hook-and-line gear ¹: DSR: Season | Hook-and-line gear ¹: DSR: Amount
January 20-April 1 | 27.5 | 469 | January 1-June 10 | 86 | 221 | January 1-December 31 | 9
April 1-July 1 | 20 | 341 | June 10-September 1 | 2 | 5 |  |
July 1-September 1 | 30 | 512 | September 1-December 31 | 12 | 31 |  |
September 1-October 1 | 7.5 | 128 |  |  |  |  |
October 1-December 31 | 15 | 256 |  |  |  |  |
Total |  | 1,706 |  |  | 257 |  | 9
¹ The Pacific halibut prohibited species catch (PSC) limit for hook-and-line gear is allocated to the demersal shelf rockfish (DSR) fishery and fisheries other than DSR. The hook-and-line sablefish IFQ fishery is exempt from halibut PSC limits, as are pot and jig gear for all groundfish fisheries. Note: Seasonal or sector apportionments may not total precisely due to rounding.

Section 679.21(d)(3)(ii) authorizes further apportionment of the trawl halibut PSC limit to trawl fishery categories listed in § 679.21(d)(3)(iii). The annual apportionments are based on each category's proportional share of the anticipated halibut bycatch mortality during the fishing year and optimization of the total amount of groundfish harvest under the halibut PSC limit. The fishery categories for the trawl halibut PSC limits are: (1) A deep-water species fishery, composed of sablefish, rockfish, deep-water flatfish, rex sole, and arrowtooth flounder; and (2) a shallow-water species fishery, composed of pollock, Pacific cod, shallow-water flatfish, flathead sole, Atka mackerel, skates, and “other species” (sculpins, sharks, squids, and octopuses).

NMFS will combine available trawl halibut PSC limit apportionments in the second season deep-water and shallow-water fisheries for use in either fishery from May 15 through June 30 (§ 679.21(d)(4)(iii)(D). This is intended to maintain groundfish harvest while minimizing halibut bycatch by these sectors to the extent practicable. This provides the deep-water and shallow-water trawl fisheries additional flexibility and the incentive to participate in fisheries at times of the year that may have lower halibut PSC rates relative to other times of the year.

Table 15 lists the final 2017 and 2018 apportionments of halibut PSC trawl limits between the trawl gear deep-water and shallow-water species fishery categories.

Table 28d to 50 CFR part 679 specifies the amount of the trawl halibut PSC limit that is assigned to the CV andC/P sectors that are participating in the Rockfish Program. This includes 117 mt of halibut PSC limit to the CV sector and 74 mt of halibut PSC limit to the C/P sector. These amounts are allocated from the trawl deep-water species fishery's halibut PSC third seasonal apportionment.

Section 679.21(d)(4)(iii)(B) limits the amount of the halibut PSC limit allocated to Rockfish Program participants that could be re-apportioned to the general GOA trawl fisheries during the current fishing year to no more than 55 percent of the unused annual halibut PSC apportioned to Rockfish Program participants. The remainder of the unused Rockfish Program halibut PSC limit is unavailable for use by vessels directed fishing with trawl gear for the remainder of the fishing year (§ 679.21(d)(4)(iii)(C)).

Table 15—Final 2017 and 2018 Apportionment of Pacific Halibut PSC Trawl Limits Between the Trawl Gear Deep-Water Species Fishery and the Shallow-Water Species Fishery Categories
[Values are in metric tons]
Season | Shallow-water | Deep-water ¹ | Total
January 20-April 1 | 384 | 85 | 469
April 1-July 1 | 85 | 256 | 341
July 1-September 1 | 171 | 341 | 512
September 1-October 1 | 128 | Any remainder | 128
Subtotal January 20-October 1 | 768 | 682 | 1,450
October 1-December 31 ² |  |  | 256
Total |  |  | 1,706
¹ Vessels participating in cooperatives in the Central GOA Rockfish Program will receive 191 mt of the third season (July 1 through September 1) deep-water species fishery halibut PSC apportionment.
² There is no apportionment between trawl shallow-water and deep-water species fishery categories during the fifth season (October 1 through December 31).

Section 679.21(d)(2)(i)(B) requires that the “other hook-and-line fishery” halibut PSC limit apportionment to vessels using hook-and-line gear must be apportioned between CVs and C/Ps in accordance with § 679.21(d)(2)(iii) in conjunction with these harvest specifications. A comprehensive description and example of the calculations necessary to apportion the “other hook-and-line fishery” halibut PSC limit between the hook-and-line CV and C/P sectors were included in the proposed rule to implement Amendment 83 to the FMP (76 FR 44700, July 26, 2011) and are not repeated here.

Pursuant to § 679.21(d)(2)(iii), the hook-and-line halibut PSC limit is apportioned between the CV and C/P sectors in proportion to the total Western and Central GOA Pacific cod allocations, which vary annually based on the proportion of the Pacific cod biomass. Pacific cod is apportioned among these two management areas based on the percentage of overall biomass per area, as calculated in the 2016 Pacific cod stock assessment. Updated information in the final 2016 SAFE report describes this distributional calculation, which is based on allocating ABC among regulatory areas on the basis of the three most recent stock surveys. For 2017 and 2018, the distribution of the total GOA Pacific cod ABC is 41 percent to the Western GOA, 50 percent to the Central GOA, and 9 percent to the Eastern GOA. Therefore, the calculations made in accordance with § 679.21(d)(2)(iii) incorporate the most recent information on GOA Pacific cod distribution with respect to establishing the annual halibut PSC limits for the CV and C/P hook-and-line sectors. The annual halibut PSC limits are divided into three seasonal apportionments, using seasonal percentages of 86 percent, 2 percent, and 12 percent.

For 2017 and 2018, NMFS apportions halibut PSC limits of 129 mt and 128 mt to the hook-and-line CV and hook-and-line C/P sectors, respectively. Table 16 lists the final 2017 and 2018 apportionments of halibut PSC limits between the hook-and-line CV and hook-and-line C/P sectors.

No later than November 1 of each year, NMFS will calculate the projected unused amount of halibut PSC limit by either of the hook-and-line sectors for the remainder of the year. The projected unused amount of halibut PSC limit is made available to the other hook-and-line sector for the remainder of that fishing year if NMFS determines that an additional amount of halibut PSC is necessary for that sector to continue its directed fishing operations (§ 679.21(d)(2)(iii)(C)).

Table 16—Final 2017 and 2018 Apportionments of the “other hook-and-line fisheries” Annual Halibut PSC Allowance between the Hook-and-Line Gear Catcher Vessel and Catcher/Processor Sectors
[Values are in metric tons]
“Other than DSR” allowance | Hook-and-line sector | Sector annual amount | Season | Seasonal percentage | Sector seasonal amount
257 | Catcher Vessel | 129 | January 1-June 10 | 86 | 111
|  |  | June 10-September 1 | 2 | 3
|  |  | September 1-December 31 | 12 | 15
| Catcher/Processor | 128
|  |  | January 1-June 10 | 86 | 110
|  |  | June 10-September 1 | 2 | 3
|  |  | September 1-December 31 | 12 | 15

Estimates of Halibut Biomass and Stock Condition

The IPHC annually assesses the abundance and potential yield of the Pacific halibut stock using all available data from the commercial and sport fisheries, other removals, and scientific surveys. Additional information on the Pacific halibut stock assessment may be found in the IPHC's 2016 Pacific halibut stock assessment (December 2016), available on the IPHC Web site at www.iphc.int. The IPHC considered the 2016 Pacific halibut stock assessment at its January 2017 annual meeting when it set the 2017 commercial halibut fishery catch limits.

Halibut Discard Mortality Rates

To monitor halibut bycatch mortality allowances and apportionments, the Regional Administrator uses observed halibut incidental catch rates, halibut discard mortality rates (DMRs), and estimates of groundfish catch to project when a fishery's halibut bycatch mortality allowance or seasonal apportionment is reached. Halibut incidental catch rates are based on observers' estimates of halibut incidental catch in the groundfish fishery. DMRs are estimates of the proportion of incidentally caught halibut that do not survive after being returned to the sea. The cumulative halibut mortality that accrues to a particular halibut PSC limit is the product of a DMR multiplied by the estimated halibut PSC. DMRs are estimated using the best information available in conjunction with the annual GOA stock assessment process. The DMR methodology and findings are included as an appendix to the annual GOA groundfish SAFE report.

In 2016, the DMR estimation methodology underwent revisions per the Council's directive. An interagency halibut working group (IPHC, Council, and NMFS staff) developed improved estimation methods that have undergone review by the GOA Plan Team, SSC, and the Council. A summary of the revised methodology is contained in the GOA proposed 2017 and 2018 harvest specifications (81 FR 87881, December 6, 2016), and the comprehensive discussion of the working group's statistical methodology is available from the Council (see ADDRESSES). While the DMR working group's revised methodology is intended to improve estimation accuracy, as well as transparency and transferability in the methodology used, for calculating DMRs, the working group will continue to consider improvements to the methodology used to calculate halibut mortality. Future DMRs, including the 2018 DMRs, may change based on an additional year of observer sampling, which could provide more recent and accurate data and which could improve the accuracy of estimation and progress on methodology.

At the December 2016 meeting, the SSC, AP, and Council concurred with the revised DMR estimation methodology. The Council recommended adopting the halibut DMRs derived from that process for 2017 and 2018, with no changes except a minor increase in the rate assigned to non-pelagic trawl catcher vessels that do not participate in the Rockfish Program (a two percent increase) and a decrease in the rate assigned to non-pelagic trawl catcher vessels that do participate in the Rockfish Program (an eighteen percent decrease). These changes reflect corrections that were made in programming code associated with calculating the DMRs for the trawl gear categories. Table 17 lists the proposed 2017 and 2018 DMRs.

Table 17—Final 2017 and 2018 Halibut Discard Mortality Rates for Vessels Fishing in the Gulf of Alaska
[Values are percent of halibut assumed to be dead]
Gear | Sector | Groundfish fishery | Halibut discard mortality rate (percent)
Pelagic trawl | Catcher vessel | All | 100
| Catcher/processor | All | 100
Non-pelagic trawl | Catcher vessel | Rockfish Program | 67
| Catcher vessel | All others | 65
| Mothership and catcher/processor | All | 85
Hook-and-line | Catcher/processor | All | 11
| Catcher vessel | All | 12
Pot | Catcher vessel and catcher/processor | All | 10

Chinook Salmon Prohibited Species Catch Limits

Amendment 93 to the FMP (77 FR 42629, July 20, 2012) established separate Chinook salmon PSC limits in the Western and Central GOA in the directed pollock fishery. These limits require NMFS to close the pollock directed fishery in the Western and Central Regulatory Areas of the GOA if the applicable limit is reached (§ 679.21(h)(8)). The annual Chinook salmon PSC limits in the pollock directed fishery of 6,684 salmon in the Western GOA and 18,316 salmon in the Central GOA are set at § 679.21(h)(2)(i) and (ii). In addition, all salmon (regardless of species) taken in the pollock directed fisheries in the Western and Central GOA must be retained until the manager of a shoreside processor or stationary floating processor has accurately recorded the number of salmon by species in the eLandings at-sea production report or eLandings groundfish landing report. If an observer is present at the processing facility that takes delivery of the catch, then the observer is provided an opportunity to count the number of salmon and to collect any scientific data or biological samples from the salmon (§ 679.21(h)(6)).

Amendment 97 to the FMP (79 FR 71350, December 2, 2014) established an initial annual PSC limit of 7,500 Chinook salmon for the non-pollock groundfish fisheries. This limit is apportioned among three sectors: 3,600 Chinook salmon to trawl C/Ps; 1,200 Chinook salmon to trawl CVs participating in the Rockfish Program; and 2,700 Chinook salmon to trawl CVs not participating in the Rockfish Program that are fishing for groundfish species other than pollock (§ 679.21(h)(4)). NMFS will monitor the Chinook salmon PSC in the non-pollock GOA groundfish fisheries and close an applicable sector if it reaches its Chinook salmon PSC limit.

The Chinook salmon PSC limit for two sectors, trawl C/Ps and trawl CVs not participating in the Rockfish Program, may be increased in subsequent years based on the performance of these two sectors and their ability to minimize their use of their respective Chinook salmon PSC limits. If either or both of these two sectors limits its use of Chinook salmon PSC to a specified threshold amount in 2016, that sector will receive an incremental increase to its 2017 Chinook salmon PSC limit (§ 679.21(h)(4)). In 2016, the trawl C/P sector did not exceed 3,120 Chinook salmon PSC; therefore, the 2017 trawl C/Ps Chinook salmon PSC limit will be 4,080 Chinook salmon. In 2016, the Non-Rockfish Program CV sector did not exceed 2,340 Chinook salmon PSC; therefore, the 2017 Non-Rockfish Program CV sector limit will be 3,060 Chinook salmon.

As described earlier in this preamble, Amendment 103 to the FMP became effective in 2016. The regulations associated with Amendment 103 authorize NMFS to use inseason management actions to reapportion unused Chinook salmon PSC limits among the pollock and non-pollock sectors. NMFS did not exercise this authority in 2016, as none of the trawl sectors needed reapportionments. NMFS may use this authority in 2017 and 2018 for inseason management actions if a trawl sector needs reapportionment of unused Chinook salmon PSC limits.

American Fisheries Act (AFA) Catcher/Processor and Catcher Vessel Groundfish Harvest and PSC Limits

Section 679.64 establishes groundfish harvesting and processing sideboard limitations on AFA C/Ps and CVs in the GOA. These sideboard limits are necessary to protect the interests of fishermen and processors who do not directly benefit from the AFA from those fishermen and processors who receive exclusive harvesting and processing privileges under the AFA. Section 679.7(k)(1)(ii) prohibits listed AFA C/Ps and C/Ps designated on a listed AFA C/P permit from harvesting any species of groundfish in the GOA. Additionally, § 679.7(k)(1)(iv) prohibits listed AFA C/Ps and C/Ps designated on a listed AFA C/P permit from processing any pollock harvested in a directed pollock fishery in the GOA and any groundfish harvested in Statistical Area 630 of the GOA.

AFA CVs that are less than 125 ft (38.1 meters) length overall, have annual landings of pollock in the Bering Sea and Aleutian Islands less than 5,100 mt, and have made at least 40 GOA groundfish landings from 1995 through 1997 are exempt from GOA sideboard limits under § 679.64(b)(2)(ii). Sideboard limits for non-exempt AFA CVs in the GOA are based on their traditional harvest levels of TAC in groundfish fisheries covered by the FMP. Section 679.64(b)(3)(iv) establishes the groundfish sideboard limitations in the GOA based on the aggregate retained catch of non-exempt AFA CVs of each sideboard species from 1995 through 1997 divided by the sum of the TACs for that species or species group available to CVs over the same period.

Tables 18 and 19 list the final 2017 and 2018 groundfish sideboard limits for non-exempt AFA CVs. NMFS will deduct all targeted or incidental catch of sideboard species made by non-exempt AFA CVs from the sideboard limits listed in Tables 18 and 19.

Table 18—Final 2017 GOA Non-Exempt American Fisheries Act Catcher Vessel (CV) Groundfish Harvest Sideboard Limits
[Values are rounded to the nearest metric ton]
Species | Apportionments by season/gear | Area/component | Ratio of 1995-1997 non- exempt AFA CV catch to 1995-1997 TAC | Final 2017 TACs | Final 2017 non-exempt AFA CV sideboard limit
Pollock | A Season—January 20-March 10 | Shumagin (610) | 0.6047 | 2,232 | 1,350
|  | Chirikof (620) | 0.1167 | 34,549 | 4,032
|  | Kodiak (630) | 0.2028 | 11,014 | 2,234
| B Season—March 10-May 31 | Shumagin (610) | 0.6047 | 2,232 | 1,350
|  | Chirikof (620) | 0.1167 | 39,420 | 4,600
|  | Kodiak (630) | 0.2028 | 6,143 | 1,246
| C Season—August 25-October 1 | Shumagin (610) | 0.6047 | 19,569 | 11,834
|  | Chirikof (620) | 0.1167 | 12,341 | 1,440
|  | Kodiak (630) | 0.2028 | 15,886 | 3,222
| D Season—October 1-November 1 | Shumagin (610) | 0.6047 | 19,569 | 11,834
|  | Chirikof (620) | 0.1167 | 12,341 | 1,440
|  | Kodiak (630) | 0.2028 | 15,886 | 3,222
| Annual | WYK (640) | 0.3495 | 7,492 | 2,618
|  | SEO (650) | 0.3495 | 9,920 | 3,467
Pacific cod | A Season ¹—January 1-June 10 | W | 0.1331 | 15,242 | 2,029
|  | C | 0.0692 | 19,881 | 1,376
| B Season ²—September 1-December 31 | W | 0.1331 | 10,161 | 1,352
|  | C | 0.0692 | 13,254 | 917
| Annual | E inshore | 0.0079 | 5,313 | 42
|  | E offshore | 0.0078 | 590 | 5
Sablefish | Annual, trawl gear | W | 0.0000 | 270 |
|  | C | 0.0642 | 903 | 58
|  | E | 0.0433 | 211 | 9
| Annual | W | 0.0156 | 13,250 | 207
Shallow-water flatfish |  | C | 0.0587 | 19,306 | 1,133
|  | E | 0.0126 | 4,287 | 54
| Annual | W | 0.0000 | 256 |
Deep-water flatfish |  | C | 0.0647 | 3,454 | 223
|  | E | 0.0128 | 5,582 | 71
Rex sole | Annual | W | 0.0007 | 1,459 | 1
|  | C | 0.0384 | 4,930 | 189
|  | E | 0.0029 | 1,922 | 6
Arrowtooth flounder | Annual | W | 0.0021 | 14,500 | 30
|  | C | 0.0280 | 75,000 | 2,100
|  | E | 0.0002 | 13,800 | 3
Flathead sole | Annual | W | 0.0036 | 8,650 | 31
|  | C | 0.0213 | 15,400 | 328
|  | E | 0.0009 | 3,806 | 3
Pacific ocean perch | Annual | W | 0.0023 | 2,679 | 6
|  | C | 0.0748 | 16,671 | 1,247
|  | E | 0.0466 | 4,568 | 213
Northern rockfish | Annual | W | 0.0003 | 432 | 0
|  | C | 0.0277 | 3,354 | 93
Shortraker rockfish | Annual | W | 0.0000 | 38 |
|  | C | 0.0218 | 301 | 7
|  | E | 0.0110 | 947 | 10
Dusky rockfish | Annual | W | 0.0001 | 158 | 0
|  | C | 0.0000 | 3,786 |
|  | E | 0.0067 | 334 | 2
Rougheye rockfish | Annual | W | 0.0000 | 105 |
|  | C | 0.0237 | 706 | 17
|  | E | 0.0124 | 516 | 6
Demersal shelf rockfish | Annual | SEO | 0.0020 | 227 | 0
Thornyhead rockfish | Annual | W | 0.0280 | 291 | 8
|  | C | 0.0280 | 988 | 28
|  | E | 0.0280 | 682 | 19
Other rockfish | Annual | C | 0.1699 | 1,534 | 261
|  | E | 0.0000 | 774 |
Atka mackerel | Annual | Gulfwide | 0.0309 | 3,000 | 93
Big skates | Annual | W | 0.0063 | 908 | 6
|  | C | 0.0063 | 1,850 | 12
|  | E | 0.0063 | 1,056 | 7
Longnose skates | Annual | W | 0.0063 | 61 | 0
|  | C | 0.0063 | 2,513 | 16
|  | E | 0.0063 | 632 | 4
Other skates | Annual | Gulfwide | 0.0063 | 1,919 | 12
Sculpins | Annual | Gulfwide | 0.0063 | 5,591 | 35
Sharks | Annual | Gulfwide | 0.0063 | 4,514 | 28
Squids | Annual | Gulfwide | 0.0063 | 1,137 | 7
Octopuses | Annual | Gulfwide | 0.0063 | 4,878 | 31
¹ The Pacific cod A season for trawl gear does not open until January 20.
² The Pacific cod B season for trawl gear closes November 1.

Table 19—Final 2018 GOA Non-Exempt American Fisheries Act Catcher Vessel (CV) Groundfish Harvest Sideboard Limits
[Values are rounded to the nearest metric ton]
Species | Apportionments by season/gear | Area/component | Ratio of 1995-1997 non- exempt AFA CV catch to 1995-1997 TAC | Final 2018 TACs | Final 2018 non-exempt AFA CV sideboard limit
Pollock | A Season—January 20-March 10 | Shumagin (610) | 0.6047 | 1,725 | 1,043
|  | Chirikof (620) | 0.1167 | 26,704 | 3,116
|  | Kodiak (630) | 0.2028 | 8,513 | 1,726
| B—Season March 10-May 31 | Shumagin (610) | 0.6047 | 1,725 | 1,043
|  | Chirikof (620) | 0.1167 | 30,469 | 3,556
|  | Kodiak (630) | 0.2028 | 4,748 | 963
| C Season—August 25-October 1 | Shumagin (610) | 0.6047 | 15,125 | 9,146
|  | Chirikof (620) | 0.1167 | 9,538 | 1,113
|  | Kodiak (630) | 0.2028 | 12,278 | 2,490
| D Season—October 1-November 1 | Shumagin (610) | 0.6047 | 15,125 | 9,146
|  | Chirikof (620) | 0.1167 | 9,538 | 1,113
|  | Kodiak (630) | 0.2028 | 12,278 | 2,490
| Annual | WYK (640) | 0.3495 | 5,791 | 2,024
|  | SEO (650) | 0.3495 | 9,920 | 3,467
Pacific cod | A Season ¹—January 1-June 10 | W | 0.1331 | 13,677 | 1,820
|  | C | 0.0692 | 17,840 | 1,235
| B Season ²—September 1-December 31 | W | 0.1331 | 9,118 | 1,214
|  | C | 0.0692 | 11,893 | 823
| Annual | E inshore | 0.0079 | 4,768 | 38
|  | E offshore | 0.0078 | 530 | 4
Sablefish | Annual, trawl gear | W | 0.0000 | 273 |
|  | C | 0.0642 | 915 | 59
|  | E | 0.0433 | 213 | 9
Shallow-water flatfish | Annual | W | 0.0156 | 13,250 | 207
|  | C | 0.0587 | 19,418 | 1,140
|  | E | 0.0126 | 4,311 | 54
Deep-water flatfish | Annual | W | 0.0000 | 257 |
|  | C | 0.0647 | 3,488 | 226
|  | E | 0.0128 | 5,637 | 72
Rex sole | Annual | W | 0.0007 | 1,478 | 1
|  | C | 0.0384 | 4,995 | 192
|  | E | 0.0029 | 1,948 | 6
Arrowtooth flounder | Annual | W | 0.0021 | 14,500 | 30
|  | C | 0.0280 | 75,000 | 2,100
|  | E | 0.0002 | 13,800 | 3
Flathead sole | Annual | W | 0.0036 | 8,650 | 31
|  | C | 0.0213 | 15,400 | 30
|  | E | 0.0009 | 3,870 | 3
Pacific ocean perch | Annual | W | 0.0023 | 2,627 | 6
|  | C | 0.0748 | 16,347 | 1,223
|  | E | 0.0466 | 4,480 | 209
Northern rockfish | Annual | W | 0.0003 | 400 | 0
|  | C | 0.0277 | 3,108 | 86
Shortraker rockfish | Annual | W | 0.0000 | 38 |
|  | C | 0.0218 | 301 | 7
|  | E | 0.0110 | 947 | 10
Dusky rockfish | Annual | W | 0.0001 | 146 | 0
|  | C | 0.0000 | 3,499 |
|  | E | 0.0067 | 309 | 2
Rougheye rockfish | Annual | W | 0.0000 | 104 |
|  | C | 0.0237 | 702 | 17
|  | E | 0.0124 | 512 | 6
Demersal shelf rockfish | Annual | SEO | 0.0020 | 227 | 0
Thornyhead rockfish | Annual | W | 0.0280 | 291 | 8
|  | C | 0.0280 | 988 | 28
|  | E | 0.0280 | 682 | 19
Other rockfish | Annual | W/C | 0.1699 | 1,534 | 261
|  | E | 0.0000 | 774 |
Atka mackerel | Annual | Gulfwide | 0.0309 | 3,000 | 93
Big skates | Annual | W | 0.0063 | 908 | 6
|  | C | 0.0063 | 1,850 | 12
|  | E | 0.0063 | 1,056 | 7
Longnose skates | Annual | W | 0.0063 | 61 | 0
|  | C | 0.0063 | 2,513 | 16
|  | E | 0.0063 | 632 | 4
Other skates | Annual | Gulfwide | 0.0063 | 1,919 | 12
Sculpins | Annual | Gulfwide | 0.0063 | 5,591 | 35
Sharks | Annual | Gulfwide | 0.0063 | 4,514 | 28
Squids | Annual | Gulfwide | 0.0063 | 1,137 | 7
Octopuses | Annual | Gulfwide | 0.0063 | 4,878 | 31
¹ The Pacific cod A season for trawl gear does not open until January 20.
² The Pacific cod B season for trawl gear closes November 1.

Non-Exempt AFA Catcher Vessel Halibut PSC Limits

The halibut PSC sideboard limits for non-exempt AFA CVs in the GOA are based on the aggregate retained groundfish catch by non-exempt AFA CVs in each PSC target category from 1995 through 1997 divided by the retained catch of all vessels in that fishery from 1995 through 1997 (§ 679.64(b)(4)(ii)). Table 20 lists the final 2017 and 2018 non-exempt AFA CV halibut PSC limits for vessels using trawl gear in the GOA, respectively.

Table 20—Final 2017 and 2018 Non-Exempt AFA CV Halibut Prohibited Species Catch (PSC) Limits for Vessels Using Trawl Gear in the GOA
[Values are rounded to nearest metric ton]
Season | Season dates | Target fishery | Ratio of 1995- 1997 non- exempt AFA CV retained catch to total retained catch | 2017 and 2018 PSC limit | 2017 and 2018 non-exempt AFA CV PSC limit
1 | January 20-April 1 | shallow-water | 0.340 | 384 | 131
|  | deep-water | 0.070 | 85 | 6
2 | April 1-July 1 | shallow-water | 0.340 | 85 | 29
|  | deep-water | 0.070 | 256 | 18
3 | July 1-September 1 | shallow-water | 0.340 | 171 | 58
|  | deep-water | 0.070 | 341 | 24
4 | September 1-October 1 | shallow-water | 0.340 | 128 | 44
|  | deep-water | 0.070 | 0 | 0
5 | October 1-December 31 | all targets | 0.205 | 256 | 52
Total |  |  |  | 1,706 | 362

Non-AFA Crab Vessel Groundfish Harvest Limitations

Section 680.22 establishes groundfish catch limits for vessels with a history of participation in the Bering Sea snow crab fishery to prevent these vessels from using the increased flexibility provided by the Crab Rationalization Program to expand their level of participation in the GOA groundfish fisheries. Sideboard limits restrict these vessels' catch to their collective historical landings in each GOA groundfish fishery (except the fixed-gear sablefish fishery). Sideboard limits also apply to catch made using an LLP license derived from the history of a restricted vessel, even if that LLP license is used on another vessel.

The basis for these sideboard limits is described in detail in the final rules implementing the major provisions of Amendments 18 and 19 to the Fishery Management Plan for Bering Sea/Aleutian Islands King and Tanner Crabs (Crab FMP) (70 FR 10174, March 2, 2005), Amendment 34 to the Crab FMP (76 FR 35772, June 20, 2011), Amendment 83 to the GOA FMP (76 FR 74670, December 1, 2011), and Amendment 45 to the Crab FMP (80 FR 28539, May 19, 2015).

Tables 21 and 22 list the final 2017 and 2018 groundfish sideboard limitations for non-AFA crab vessels. All targeted or incidental catch of sideboard species made by non-AFA crab vessels or associated LLP licenses will be deducted from these sideboard limits.

Table 21—Final 2017 GOA Non-American Fisheries Act Crab Vessel Groundfish Harvest Sideboard Limits
[Values are rounded to nearest metric ton]
Species | Season/gear | Area/component/gear | Ratio of 1996-2000 non-AFA crab vessel catch to 1996-2000 total harvest | Final 2017 TACs | Final 2017 non-AFA crab vessel sideboard limit
Pollock | A Season—January 20-March 10 | Shumagin (610) Chirikof (620) | 0.0098 0.0031 | 2,232 34,549 | 22 107
|  | Kodiak (630) | 0.0002 | 11,014 | 2
| B Season—March 10-May 31 | Shumagin (610) | 0.0098 | 2,232 | 22
|  | Chirikof (620) | 0.0031 | 39,420 | 122
|  | Kodiak (630) | 0.0002 | 6,143 | 1
| C Season—August 25-October 1 | Shumagin (610) | 0.0098 | 19,569 | 192
|  | Chirikof (620) | 0.0031 | 12,341 | 38
|  | Kodiak (630) | 0.0002 | 15,886 | 3
| D Season—October 1-November 1 | Shumagin (610) | 0.0098 | 19,569 | 192
|  | Chirikof (620) | 0.0031 | 12,341 | 38
|  | Kodiak (630) | 0.0002 | 15,886 | 3
| Annual | WYK (640) | 0.0000 | 7,492 |
|  | SEO (650) | 0.0000 | 9,920 |
Pacific cod | A Season—January 1-June 10 ¹ | WG Jig | 0.0000 | 15,242
|  | WG Hook-and-line CV | 0.0004 | 15,242 | 6
|  | WG Pot CV | 0.0997 | 15,242 | 1,520
|  | WG Pot C/P | 0.0078 | 15,242 | 119
|  | WG Trawl CV | 0.0007 | 15,242 | 11
|  | CG Jig | 0.0000 | 19,881 |
|  | CG Hook-and-line CV | 0.0001 | 19,881 | 2
|  | CG Pot CV | 0.0474 | 19,881 | 942
|  | CG Pot C/P | 0.0136 | 19,881 | 270
|  | CG Trawl CV | 0.0012 | 19,881 | 24
| B Season ² | WG Jig | 0.0000 | 10,161 |
| Jig Gear: June 10-December 31 | WG Hook-and-line CV | 0.0004 | 10,161 | 4
| All other gears: | WG Pot CV | 0.0997 | 10,161 | 1,013
| September 1-December 31 | WG Pot C/P | 0.0078 | 10,161 | 79
|  | WG Trawl CV | 0.0007 | 10,161 | 7
|  | CG Jig | 0.0000 | 13,254 |
|  | CG Hook-and-line CV | 0.0001 | 13,254 | 1
|  | CG Pot CV | 0.0474 | 13,254 | 628
|  | CG Pot C/P | 0.0136 | 13,254 | 180
|  | CG Trawl CV | 0.0012 | 13,254 | 16
| Annual | EG inshore | 0.0110 | 5,313 | 58
|  | EG offshore | 0.0000 | 590 |
Sablefish | Annual, trawl gear | W | 0.0000 | 270 |
|  | C | 0.0000 | 903 |
|  | E | 0.0000 | 211 |
Shallow-water flatfish | Annual | W | 0.0059 | 13,250 | 78
|  | C | 0.0001 | 19,306 | 2
|  | E | 0.0000 | 4,287 |
Deep-water flatfish | Annual | W | 0.0035 | 256 | 1
|  | C | 0.0000 | 3,454 |
|  | E | 0.0000 | 5,582 |
Rex sole | Annual | W | 0.0000 | 1,459 |
|  | C | 0.0000 | 4,930 |
|  | E | 0.0000 | 1,922 |
Arrowtooth flounder | Annual | W | 0.0004 | 14,500 | 6
|  | C | 0.0001 | 75,000 | 8
|  | E | 0.0000 | 13,800 |
Flathead sole | Annual | W | 0.0002 | 8,650 | 2
|  | C | 0.0004 | 15,400 | 6
|  | E | 0.0000 | 3,806 |
Pacific ocean perch | Annual | W | 0.0000 | 2,679 |
|  | C | 0.0000 | 16,671 |
|  | E | 0.0000 | 4,568 |
Northern rockfish | Annual | W | 0.0005 | 432 | 0
|  | C | 0.0000 | 3,354 |
Shortraker rockfish | Annual | W | 0.0013 | 38 | 0
|  | C | 0.0012 | 301 | 0
|  | E | 0.0009 | 947 | 1
Dusky rockfish | Annual | W | 0.0017 | 158 | 0
|  | C | 0.0000 | 3,786 |
|  | E | 0.0000 | 334 |
Rougheye rockfish | Annual | W | 0.0067 | 105 | 1
|  | C | 0.0047 | 706 | 3
|  | E | 0.0008 | 516 | 0
Demersal shelf rockfish | Annual | SEO | 0.0000 | 227 |
Thornyhead rockfish | Annual | W | 0.0047 | 291 | 1
|  | C | 0.0066 | 988 | 7
|  | E | 0.0045 | 682 | 3
Other rockfish | Annual | W/C | 0.0033 | 1,534 | 5
|  | E | 0.0000 | 774 |
Atka mackerel | Annual | Gulfwide | 0.0000 | 3,000 |
Big skate | Annual | W | 0.0392 | 908 | 36
|  | C | 0.0159 | 1,850 | 29
|  | E | 0.0000 | 1,056 |
Longnose skate | Annual | W | 0.0392 | 61 | 2
|  | C | 0.0159 | 2,513 | 40
|  | E | 0.0000 | 632 |
Other skates | Annual | Gulfwide | 0.0176 | 1,919 | 34
Sculpins | Annual | Gulfwide | 0.0176 | 5,591 | 98
Sharks | Annual | Gulfwide | 0.0176 | 4,514 | 79
Squids | Annual | Gulfwide | 0.0176 | 1,137 | 20
Octopuses | Annual | Gulfwide | 0.0176 | 4,878 | 86
¹ The Pacific cod A season for trawl gear does not open until January 20.
² The Pacific cod B season for trawl gear closes November 1.

Table 22—Final 2018 GOA Non-American Fisheries Act Crab Vessel Groundfish Harvest Sideboard Limits
[Values are rounded to the nearest metric ton]
Species | Season/gear | Area/component/gear | Ratio of 1996-2000 non-AFA crab vessel catch to 1996-2000 total harvest | Final 2018 TACs | Final 2018 non-AFA crab vessel sideboard limit
Pollock | A Season—January 20-March 10 | Shumagin (610) Chirikof (620) | 0.0098 0.0031 | 1,725 26,704 | 17 83
|  | Kodiak (630) | 0.0002 | 8,513 | 2
| B Season—March 10-May 31 | Shumagin (610) Chirikof (620) | 0.0098 0.0031 | 1,725 30,469 | 17 94
|  | Kodiak (630) | 0.0002 | 4,748 | 1
| C Season—August 25-October 1 | Shumagin (610) Chirikof (620) | 0.0098 0.0031 | 15,125 9,538 | 148 30
|  | Kodiak (630) | 0.0002 | 12,278 | 2
| D Season—October 1-November 1 | Shumagin (610) Chirikof (620) | 0.0098 0.0031 | 15,125 9,538 | 148 30
|  | Kodiak (630) | 0.0002 | 12,278 | 2
| Annual | WYK (640) | 0.0000 | 5,791 |
|  | SEO (650) | 0.0000 | 9,920 |
Pacific cod | A Season ¹—January 1-June 10 | WG Jig WG Hook-and-line CV | 0.0000 0.0004 | 13,677 13,677 | 5
|  | WG Pot CV | 0.0997 | 13,677 | 1,364
|  | WG Pot C/P | 0.0078 | 13,677 | 107
|  | WG Trawl CV | 0.0007 | 13,677 | 10
|  | CG Jig | 0.0000 | 17,840 |
|  | CG Hook-and-line CV | 0.0001 | 17,840 | 2
|  | CG Pot CV | 0.0474 | 17,840 | 846
|  | CG Pot C/P | 0.0136 | 17,840 | 243
|  | CG Trawl CV | 0.0012 | 17,840 | 21
| B Season ²—Jig Gear: June 10-December 31; All other gears: September 1-December 31 | WG Jig WG Hook-and-line CV WG Pot CV WG Pot C/P | 0.0000 0.0004 0.0997 0.0078 | 9,118 9,118 9,118 9,118 | 4 909 71
|  | WG Trawl CV | 0.0007 | 9,118 | 6
|  | CG Jig | 0.0000 | 11,893 |
|  | CG Hook-and-line CV | 0.0001 | 11,893 | 1
|  | CG Pot CV | 0.0474 | 11,893 | 564
|  | CG Pot C/P | 0.0136 | 11,893 | 162
|  | CG Trawl CV | 0.0012 | 11,893 | 14
| Annual | E inshore | 0.0110 | 4,768 | 52
|  | E offshore | 0.0000 | 530 |
Sablefish | Annual, trawl gear | W | 0.0000 | 273 |
|  | C | 0.0000 | 915 |
|  | E | 0.0000 | 213 |
Shallow-water flatfish | Annual | W | 0.0059 | 13,250 | 78
|  | C | 0.0001 | 19,418 | 2
|  | E | 0.0000 | 4,311 |
Deep-water flatfish | Annual | W | 0.0035 | 257 | 1
|  | C | 0.0000 | 3,488 |
|  | E | 0.0000 | 5,637 |
Rex sole | Annual | W | 0.0000 | 1,478 |
|  | C | 0.0000 | 4,995 |
|  | E | 0.0000 | 1,948 |
Arrowtooth flounder | Annual | W | 0.0004 | 14,500 | 6
|  | C | 0.0001 | 75,000 | 8
|  | E | 0.0000 | 13,800 |
Flathead sole | Annual | W | 0.0002 | 8,650 | 2
|  | C | 0.0004 | 15,400 | 6
|  | E | 0.0000 | 3,870 |
Pacific ocean perch | Annual | W | 0.0000 | 2,627 |
|  | C | 0.0000 | 16,347 |
|  | E | 0.0000 | 4,480 |
Northern rockfish | Annual | W | 0.0005 | 400 | 0
|  | C | 0.0000 | 3,108 |
Shortraker rockfish | Annual | W | 0.0013 | 38 | 0
|  | C | 0.0012 | 301 | 0
|  | E | 0.0009 | 947 | 1
Dusky rockfish | Annual | W | 0.0017 | 146 | 0
|  | C | 0.0000 | 3,499 |
|  | E | 0.0000 | 309 |
Rougheye rockfish | Annual | W | 0.0067 | 104 | 1
|  | C | 0.0047 | 702 | 3
|  | E | 0.0008 | 512 | 0
Demersal shelf rockfish | Annual | SEO | 0.0000 | 227 |
Thornyhead rockfish | Annual | W | 0.0047 | 291 | 1
|  | C | 0.0066 | 988 | 7
|  | E | 0.0045 | 682 | 3
Other rockfish | Annual | W/C | 0.0033 | 1,534 | 5
|  | E | 0.0000 | 774 |
Atka mackerel | Annual | Gulfwide | 0.0000 | 3,000 |
Big skate | Annual | W | 0.0392 | 908 | 36
|  | C | 0.0159 | 1,850 | 29
|  | E | 0.0000 | 1,056 |
Longnose skate | Annual | W | 0.0392 | 61 | 2
|  | C | 0.0159 | 2,513 | 40
|  | E | 0.0000 | 632 |
Other skates | Annual | Gulfwide | 0.0176 | 1,919 | 34
Sculpins | Annual | Gulfwide | 0.0176 | 5,591 | 98
Sharks | Annual | Gulfwide | 0.0176 | 4,514 | 79
Squids | Annual | Gulfwide | 0.0176 | 1,137 | 20
Octopuses | Annual | Gulfwide | 0.0176 | 4,878 | 86
¹ The Pacific cod A season for trawl gear does not open until January 20.
² The Pacific cod B season for trawl gear closes November 1.

Rockfish Program Groundfish Sideboard and Halibut PSC Limitations

The Rockfish Program establishes three classes of sideboard provisions: CV groundfish sideboard restrictions, C/P rockfish sideboard restrictions, and C/P opt-out vessel sideboard restrictions. These sideboards are intended to limit the ability of rockfish harvesters to expand into other fisheries.

CVs participating in the Rockfish Program may not participate in directed fishing for dusky rockfish, Pacific ocean perch, and northern rockfish in the West Yakutat District and Western GOA from July 1 through July 31. Also, CVs may not participate in directed fishing for arrowtooth flounder, deep-water flatfish, and rex sole in the GOA from July 1 through July 31 (§ 679.82(d)(3)-(4)).

C/Ps participating in Rockfish Program cooperatives are restricted by rockfish and halibut PSC sideboard limits. These C/Ps are prohibited from directed fishing for dusky rockfish, Pacific ocean perch, and northern rockfish in the West Yakutat District and Western GOA from July 1 through July 31 (§ 679.82(e)(2)). Holders of C/P-designated LLP licenses that opt out of participating in a Rockfish Program cooperative will be able to access that portion of each sideboard limit that is not assigned to rockfish cooperatives. Tables 23 and 24 list the final 2017 and 2018 Rockfish Program C/P sideboard limits in the West Yakutat District and the Western GOA. Due to confidentiality requirements associated with fisheries data, the sideboard limits for the West Yakutat District are not displayed.

Table 23—Final 2017 Rockfish Program Sideboard Limits for the West Yakutat District and Western GOA by Fishery for the Catcher/Processor Sector
[Values are rounded to the nearest metric ton]
Area | Fishery | C/P sector (% of TAC) | Final 2017 TACs | Final 2017 C/P limit
Western GOA | Dusky rockfish | 72.3 | 158 | 114.
| Pacific ocean perch | 50.6 | 2,679 | 1,356.
| Northern rockfish | 74.3 | 432 | 321.
West Yakutat District | Dusky rockfish | Confidential ¹ | 251 | Confidential.¹
| Pacific ocean perch | Confidential ¹ | 2,786 | Confidential.¹
¹ Not released due to confidentiality requirements associated with fish ticket data, as established by NMFS and the State of Alaska.

Table 24—Final 2018 Rockfish Program Sideboard Limits for the West Yakutat District and Western GOA by Fishery for the Catcher/Processor Sector
[Values are rounded to the nearest metric ton]
Area | Fishery | C/P sector (% of TAC) | Final 2018 TACs | Final 2018 C/P limit
Western GOA | Dusky rockfish | 72.3 | 146 | 106.
| Pacific ocean perch | 50.6 | 2,627 | 1,329.
| Northern rockfish | 74.3 | 400 | 297.
West Yakutat District | Dusky rockfish | Confidential ¹ | 232 | Confidential.¹
| Pacific ocean perch | Confidential ¹ | 2,733 | Confidential.¹
¹ Not released due to confidentiality requirements associated with fish ticket data, as established by NMFS and the State of Alaska.

Under the Rockfish Program, the C/P sector is subject to halibut PSC sideboard limits for the trawl deep-water and shallow-water species fisheries from July 1 through July 31. No halibut PSC sideboard limits apply to the CV sector, as vessels participating in cooperatives receive a portion of the annual halibut PSC limit. C/Ps that opt out of the Rockfish Program are able to access that portion of the deep-water and shallow-water halibut PSC sideboard limit not assigned to C/P rockfish cooperatives. The sideboard provisions for C/Ps that elect to opt out of participating in a rockfish cooperative are described in § 679.82(c), (e), and (f). Sideboard limits are linked to the catch history of specific vessels that may choose to opt out. After March 1, NMFS will determine which C/Ps have opted-out of the Rockfish Program in 2017, and NMFS will know the ratios and amounts used to calculate opt-out sideboard ratios. NMFS will then calculate any applicable opt-out sideboards and post these allocations on the Alaska Region Web site at http://alaskafisheries.noaa.gov/sustainablefisheries/rockfish/. Table 25 lists the 2017 and 2018 Rockfish Program halibut PSC limits for the C/P sector.

Table 25—Final 2017 and 2018 Rockfish Program Halibut Mortality Limits for the Catcher/Processor Sector
(Values are rounded to the nearest metric ton)
Sector | Shallow-water species fishery halibut PSC sideboard ratio (percent) | Deep-water species fishery halibut PSC sideboard ratio (percent) | 2017 and 2018 halibut mortality limit (mt) | Annual shallow-water species fishery halibut PSC sideboard limit (mt) | Annual deep-water species fishery halibut PSC sideboard limit (mt)
Catcher/processor | 0.10 | 2.50 | 1,706 | 2 | 43

Amendment 80 Program Groundfish and PSC Sideboard Limits

Amendment 80 to the Fishery Management Plan for Groundfish of the Bering Sea and Aleutian Islands Management Area (Amendment 80 Program) established a limited access privilege program for the non-AFA trawl C/P sector. The Amendment 80 Program established groundfish and halibut PSC catch limits for Amendment 80 Program participants to limit the ability of participants eligible for the Amendment 80 Program to expand their harvest efforts in the GOA.

Section 679.92 establishes groundfish harvesting sideboard limits on all Amendment 80 program vessels, other than the F/V Golden Fleece, to amounts no greater than the limits listed in Table 37 to 50 CFR part 679. Under § 679.92(d), the F/V Golden Fleece is prohibited from directed fishing for pollock, Pacific cod, Pacific ocean perch, dusky rockfish, and northern rockfish in the GOA.

Groundfish sideboard limits for Amendment 80 Program vessels operating in the GOA are based on their average aggregate harvests from 1998 through 2004. Tables 26 and 27 list the final 2017 and 2018 groundfish sideboard limits for Amendment 80 Program vessels. NMFS will deduct all targeted or incidental catch of sideboard species made by Amendment 80 Program vessels from the sideboard limits in Tables 26 and 27.

Table 26—Final 2017 GOA Groundfish Sideboard Limits for Amendment 80 Program Vessels
[Values are rounded to nearest metric ton]
Species | Apportionments and allocations by season | Area | Ratio of Amendment 80 sector vessels 1998-2004 catch to TAC | 2017 TAC (mt) | 2017 Amendment 80 vessel sideboards (mt)
Pollock | A Season—January 20-February 25 | Shumagin (610) | 0.003 | 2,232 | 7
|  | Chirikof (620) | 0.002 | 34,549 | 69
|  | Kodiak (630) | 0.002 | 11,014 | 22
| B Season—March 10-May 31 | Shumagin (610) | 0.003 | 2,232 | 7
|  | Chirikof (620) | 0.002 | 39,420 | 79
|  | Kodiak (630) | 0.002 | 6,143 | 12
| C Season—August 25-September 15 | Shumagin (610) | 0.003 | 19,569 | 59
|  | Chirikof (620) | 0.002 | 12,341 | 25
|  | Kodiak (630) | 0.002 | 15,886 | 32
| D Season—October 1-November 1 | Shumagin (610) | 0.003 | 19,569 | 59
|  | Chirikof (620) | 0.002 | 12,341 | 25
|  | Kodiak (630) | 0.002 | 15,886 | 32
| Annual | WYK (640) | 0.002 | 7,492 | 15
Pacific cod | A Season ¹—January 1-June 10 | W | 0.020 | 15,242 | 305
|  | C | 0.044 | 19,881 | 875
| B Season ²—September 1-December 31 | W | 0.020 | 10,161 | 203
|  | C | 0.044 | 13,254 | 583
| Annual | WYK | 0.034 | 5,903 | 201
Pacific ocean perch | Annual | W | 0.994 | 2,679 | 2,663
|  | WYK | 0.961 | 2,786 | 2,677
Northern rockfish | Annual | W | 1.000 | 432 | 432
Dusky rockfish | Annual | W | 0.764 | 158 | 121
|  | WYK | 0.896 | 251 | 225
¹ The Pacific cod A season for trawl gear does not open until January 20.
² The Pacific cod B season for trawl gear closes November 1.

Table 27—Final 2018 GOA Groundfish Sideboard Limits for Amendment 80 Program Vessels
[Values are rounded to nearest metric ton]
Species | Apportionments and allocations by season | Area | Ratio of Amendment 80 sector vessels 1998-2004 catch to TAC | 2018 TAC (mt) | 2018 Amendment 80 vessel sideboards (mt)
Pollock | A Season—January 20-February 25 | Shumagin (610) Chirikof (620) Kodiak (630) | 0.003 0.002 0.002 | 1,725 26,704 8,513 | 5 53 17
| B Season—March 10-May 31 | Shumagin (610) Chirikof (620) Kodiak (630) | 0.003 0.002 0.002 | 1,725 30,469 4,748 | 5 61 9
| C Season—August 25-September 15 | Shumagin (610) Chirikof (620) Kodiak (630) | 0.003 0.002 0.002 | 15,125 9,538 12,278 | 45 19 25
| D Season—October 1-November 1 | Shumagin (610) Chirikof (620) Kodiak (630) | 0.003 0.002 0.002 | 15,125 9,538 12,278 | 45 19 25
| Annual | WYK (640) | 0.002 | 5,791 | 12
Pacific cod | A Season ¹—January 1-June 10 | W C | 0.020 0.044 | 13,677 17,840 | 274 785
| B Season ²—September 1-December 31 | W C | 0.020 0.044 | 9,118 11,893 | 182 523
| Annual | WYK | 0.034 | 5,297 | 180
Pacific ocean perch | Annual | W | 0.994 | 2,627 | 2,611
|  | WYK | 0.961 | 2,733 | 2,626
Northern rockfish | Annual | W | 1.000 | 400 | 400
Dusky rockfish | Annual | W | 0.764 | 146 | 112
|  | WYK | 0.896 | 232 | 208
¹ The Pacific cod A season for trawl gear does not open until January 20.
² The Pacific cod B season for trawl gear closes November 1.

The PSC sideboard limits for Amendment 80 Program vessels in the GOA are based on the historic use of halibut PSC by Amendment 80 Program vessels in each PSC target category from 1998 through 2004. These values are slightly lower than the average historic use to accommodate two factors: Allocation of halibut PSC cooperative quota under the Rockfish Program and the exemption of the F/V Golden Fleece from this restriction (§ 679.92(b)(2)). Table 28 lists the final 2017 and 2018 halibut PSC limits for Amendment 80 Program vessels. These tables incorporate the maximum percentages of the halibut PSC sideboard limits that may be used by Amendment 80 Program vessels as contained in Table 38 to 50 CFR part 679. Any residual amount of a seasonal Amendment 80 sideboard halibut PSC limit may carry forward to the next season limit (§ 679.92(b)(2)).

Table 28—Final 2017 and 2018 Halibut PSC Limits for Amendment 80 Program Vessels in the GOA
[Values are rounded to nearest metric ton]
Season | Season dates | Target fishery | Historic Amendment 80 use of the annual halibut PSC limit catch (ratio) | 2017 and 2018 annual PSC limit (mt) | 2017 and 2018 Amendment 80 vessel PSC limit
1 | January 20-April 1 | shallow-water | 0.0048 | 1,706 | 8
|  | deep-water | 0.0115 | 1,706 | 20
2 | April 1-July 1 | shallow-water | 0.0189 | 1,706 | 32
|  | deep-water | 0.1072 | 1,706 | 183
3 | July 1-September 1 | shallow-water | 0.0146 | 1,706 | 25
|  | deep-water | 0.0521 | 1,706 | 89
4 | September 1-October 1 | shallow-water | 0.0074 | 1,706 | 13
|  | deep-water | 0.0014 | 1,706 | 2
5 | October 1-December 31 | shallow-water | 0.0227 | 1,706 | 39
|  | deep-water | 0.0371 | 1,706 | 63
Total |  |  |  |  | 474

Directed Fishing Closures

Pursuant to § 679.20(d)(1)(i), if the Regional Administrator determines (1) that any allocation or apportionment of a target species or species group allocated or apportioned to a fishery will be reached; or (2) with respect to pollock and Pacific cod, that an allocation or apportionment to an inshore or offshore component or sector allocation will be reached, then the Regional Administrator may establish a directed fishing allowance (DFA) for that species or species group. If the Regional Administrator establishes a DFA and that allowance is or will be reached before the end of the fishing year, NMFS will prohibit directed fishing for that species or species group in the specified GOA subarea, regulatory area, or district (§ 679.20(d)(1)(iii)).

The Regional Administrator has determined that the TACs for the species listed in Table 29 are necessary to account for the incidental catch of these species in other anticipated groundfish fisheries for the 2017 and 2018 fishing years.

Table 29—2017 and 2018 Directed Fishing Closures in the GOA
[Amounts for incidental catch in other directed fisheries are in metric tons]
Target | Area/component/gear | Incidental catch amount and year (if amounts differ by year)
Pollock | all/offshore | not applicable.¹
Sablefish ² | all/trawl | 1,383 (2017), 1,402 (2018).
Pacific cod | Western, catcher/processor, trawl Central, catcher/processor, trawl | 594 (2017), 528 (2018). 1,377 (2017), 1,236 (2018).
Shortraker rockfish ² | all | 1,286.
Rougheye rockfish ² | all | 1,327 (2017), 1,318 (2018).
Thornyhead rockfish ² | all | 1,961.
Other rockfish | all | 2,308.
Atka mackerel | all | 3,000.
Big skate | all | 3,814.
Longnose skate | all | 3,206.
Other skates | all | 1,919.
Sharks | all | 4,514.
Squids | all | 1,137.
Octopuses | all | 4,878.
¹ Pollock is closed to directed fishing in the GOA by the offshore component under § 679.20(a)(6)(i).
² Closures not applicable to participants in cooperatives conducted under the Central GOA Rockfish Program.

Consequently, in accordance with § 679.20(d)(1)(i), the Regional Administrator establishes the DFA for the species or species groups listed in Table 29 as zero mt. Therefore, in accordance with § 679.20(d)(1)(iii), NMFS is prohibiting directed fishing for those species, areas, gear types, and components in the GOA listed in Table 29. These closures will remain in effect through 2400 hrs, A.l.t., December 31, 2018.

Section 679.64(b)(5) provides for management of AFA CV groundfish harvest limits and PSC bycatch limits using directed fishing closures and PSC closures according to procedures set out at §§ 679.20(d)(1)(iv), 679.21(d)(6), and 679.21(e)(3)(v). The Regional Administrator has determined that, in addition to the closures listed above, many of the non-exempt AFA CV sideboard limits listed in Tables 18 and 19 are necessary as incidental catch to support other anticipated groundfish fisheries for the 2017 and 2018 fishing years. In accordance with § 679.20(d)(1)(iv), the Regional Administrator sets the DFAs for the species and species groups in Table 30 at zero mt. Therefore, in accordance with § 679.20(d)(1)(iii), NMFS is prohibiting directed fishing by non-exempt AFA CVs in the GOA for the species and specified areas listed in Table 30. These closures will remain in effect through 2400 hrs, A.l.t., December 31, 2018.

Table 30—2017 and 2018 Non-Exempt AFA CV Sideboard Directed Fishing Closures for All Gear Types in the GOA
[Amounts for incidental catch in other directed fisheries are in metric tons]
Species | Regulatory area/district | Incidental catch amount
Pacific cod | Eastern | 42 (inshore) and 5 (offshore) [2017]. 38 (inshore) and 4 (offshore) [2018].
Shallow-water flatfish | Eastern | 54 in 2017, 49 in 2018.
Deep-water flatfish | Western | 0.
Rex sole | Eastern and Western | 6 and 1 (2017), 5 and 1 (2018).
Arrowtooth flounder | Eastern and Western | 3 and 30.
Flathead sole | Eastern and Western | 3 and 31.
Pacific ocean perch | Western | 6.
Northern rockfish | Western | 0.
Dusky rockfish | Entire GOA | 2.
Demersal shelf rockfish | SEO District | 0.
Sculpins | Entire GOA | 35.
Squids | Entire GOA | 7.

Section 680.22 provides for the management of non-AFA crab vessel sideboards using directed fishing closures in accordance with § 680.22(e)(2) and (3). The Regional Administrator has determined that the non-AFA crab vessel sideboards listed in Tables 21 and 22 are insufficient to support a directed fishery and has set the sideboard DFA at zero mt, with the exception of Pacific cod pot CV sector apportionments in the Western and Central Regulatory Areas. Therefore, NMFS is prohibiting directed fishing by non-AFA crab vessels in the GOA for all species and species groups listed in Tables 21 and 22, with the exception of the Pacific cod pot CV sector apportionments in the Western and Central Regulatory Areas.

Closures implemented under the 2016 and 2017 GOA harvest specifications for groundfish (81 FR 14740, March 18, 2016) remain effective under authority of these final 2017 and 2018 harvest specifications, and are posted at the following Web site: http://alaskafisheries.noaa.gov/infobulletins/search. While these closures are in effect, the maximum retainable amounts at § 679.20(e) and (f) apply at any time during a fishing trip. These closures to directed fishing are in addition to closures and prohibitions found at 50 CFR part 679. NMFS may implement other closures during the 2017 and 2018 fishing years as necessary for effective conservation and management.

Comments and Responses

NMFS did not receive any comments about the proposed harvest specifications.

Classification

NMFS has determined that these final harvest specifications are consistent with the FMP and with the Magnuson-Stevens Fishery Conservation and Management Act and other applicable laws.

This action is authorized under 50 CFR 679.20 and is exempt from review under Executive Orders 12866 and 13563.

NMFS prepared an EIS for this action (see ADDRESSES) and made it available to the public on January 12, 2007 (72 FR 1512). On February 13, 2007, NMFS issued the Record of Decision (ROD) for the EIS. In January 2017, NMFS prepared a Supplemental Information Report (SIR) for this action. Copies of the EIS, ROD, and SIR for this action are available from NMFS (see ADDRESSES). The EIS analyzes the environmental consequences of the groundfish harvest specifications and alternative harvest strategies on resources in the action area. The EIS found no significant environmental consequences of this action and its alternatives. The preferred alternative is a harvest strategy in which TACs are set at a level that falls within the range of ABCs recommended by the Council's SSC; the sum of the TACs must achieve the OY specified in the FMP. The SIR evaluates the need to prepare a Supplemental EIS (SEIS) for the 2017 and 2018 groundfish harvest specifications.

An SEIS should be prepared if (1) the agency makes substantial changes in the proposed action that are relevant to environmental concerns, or (2) significant new circumstances or information exist relevant to environmental concerns and bearing on the proposed action or its impacts (40 CFR 1502.9(c)(1)). After reviewing the information contained in the SIR and SAFE reports, the Regional Administrator has determined that (1) approval of the 2017 and 2018 harvest specifications, which were set according to the preferred harvest strategy in the EIS, do not constitute a substantial change in the action; and (2) there are no significant new circumstances or information relevant to environmental concerns and bearing on the action or its impacts. Additionally, the 2017 and 2018 harvest specifications will result in environmental impacts within the scope of those analyzed and disclosed in the EIS. Therefore, supplemental National Environmental Policy Act documentation is not necessary to implement the 2017 and 2018 harvest specifications.

Section 604 of the Regulatory Flexibility Act (RFA) (5 U.S.C. 604) requires that, when an agency promulgates a final rule under section 553 of Title 5 of the United States Code, after being required by that section, or any other law, to publish a general notice of proposed rulemaking, the agency shall prepare a final regulatory flexibility analysis (FRFA).

Section 604 describes the required contents of a FRFA: (1) A statement of the need for, and objectives of, the rule; (2) a statement of the significant issues raised by the public comments in response to the initial regulatory flexibility analysis, a statement of the assessment of the agency of such issues, and a statement of any changes made in the proposed rule as a result of such comments; (3) the response of the agency to any comments filed by the Chief Counsel for Advocacy of the Small Business Administration in response to the proposed rule, and a detailed statement of any change made to the proposed rule in the final rule as a result of the comments; (4) a description of and an estimate of the number of small entities to which the rule will apply or an explanation of why no such estimate is available; (5) a description of the projected reporting, recordkeeping, and other compliance requirements of the rule, including an estimate of the classes of small entities which will be subject to the requirement and the type of professional skills necessary for preparation of the report or record; and (6) a description of the steps the agency has taken to minimize the significant economic impact on small entities consistent with the stated objectives of applicable statutes, including a statement of the factual, policy, and legal reasons for selecting the alternative adopted in the final rule and why each one of the other significant alternatives to the rule considered by the agency that affect the impact on small entities was rejected.

A description of this action, its purpose, and its legal basis are contained at the beginning of the preamble to this final rule and are not repeated here.

NMFS published the proposed rule on December 6, 2016 (81 FR 87881). NMFS prepared an Initial Regulatory Flexibility Analysis (IRFA) to accompany this action, and included a summary in the proposed rule. The comment period closed on January 5, 2017. No comments were received on the IRFA or the economic impacts of the rule more generally. The Chief Counsel for Advocacy of the Small Business Administration did not file any comments on the proposed rule.

The entities directly regulated by this action include: (1) Entities operating vessels with groundfish FFPs catching FMP groundfish in Federal waters; (2) all entities operating vessels, regardless of whether they hold groundfish FFPs, catching FMP groundfish in the State-waters parallel fisheries; and (3) all entities operating vessels fishing for halibut inside three miles of the shore (whether or not they have FFPs).

For RFA purposes only, NMFS has established a small business size standard for businesses, including their affiliates, whose primary industry is commercial fishing (see 50 CFR 200.2). A business primarily engaged in commercial fishing (NAICS code 11411) is classified as a small business if it is independently owned and operated, is not dominant in its field of operation (including its affiliates), and has combined annual receipts not in excess of $11 million for all its affiliated operations worldwide.

Based on data from 2015 fishing activity, there were 969 individual catcher vessel entities with gross revenues meeting small entity criteria. Of these entities, 827 used hook-and-line gear, 115 used pot gear, and 30 used trawl gear (some of these entities used more than one gear type, thus the counts of entities using the different gear types do not sum to the total number of entities above). Three individual catcher/processors met the small entity criterion; two used hook-and-line gear, and one used trawl gear. Catcher/processor gross revenues were not reported for confidentiality reasons; however, hook-and-line small entities had average gross revenues of $350,000, small pot entities had average gross revenues of $760,000, and small trawl entities had average gross revenues of $1.85 million.

Some of these vessels are members of AFA inshore pollock cooperatives, of GOA rockfish cooperatives, or of Bering Sea and Aleutian Islands crab rationalization cooperatives, and, therefore, under the RFA it is the aggregate gross receipts of all participating members of the cooperative that must meet the threshold. Vessels that participate in these cooperatives are considered to be large entities within the meaning of the RFA. These relationships are accounted for, along with corporate affiliations among vessels, to the extent that they are known, in the estimated number of small entities. If affiliations exist of which NMFS is unaware, or if entities had non-fishing revenue sources, the estimates above may overstate the number of directly regulated small entities.

This action does not modify recordkeeping or reporting requirements.

NMFS considered alternative harvest strategies when choosing the preferred harvest strategy (Alternative 2) in December 2006. These included the following:

• Alternative 1: Set TACs to produce fishing mortality rates, F, that are equal to maxFABC, unless the sum of the TACs is constrained by the OY established in the fishery management plans. This is equivalent to setting TACs to produce harvest levels equal to the maximum permissible ABCs, as constrained by OY. The term “maxFABC” refers to the maximum permissible value of FABC under Amendment 56 to the BSAI and GOA groundfish fishery management plans. Historically, the TAC has been set at or below the ABC; therefore, this alternative represents a likely upper limit for setting the TAC within the OY and ABC limits.

• Alternative 3: For species in Tiers 1, 2, and 3, set TAC to produce F equal to the most recent 5-year average actual F. For species in Tiers 4, 5, and 6, set TAC equal to the most recent 5-year average actual catch. For stocks with a high level of scientific information, TACs would be set to produce harvest levels equal to the most recent 5-year average actual fishing mortality rates. For stocks with insufficient scientific information, TACs would be set equal to the most recent 5-year average actual catch. This alternative recognizes that for some stocks, catches may fall well below ABCs, and recent average F may provide a better indicator of actual F than FABC does.

• Alternative 4: (1) Set TACs for rockfish species in Tier 3 at F75%. Set TACs for rockfish species in Tier 5 at F = 0.5M. Set spatially explicit TACs for shortraker and rougheye rockfish in the GOA. (2) Taking the rockfish TACs as calculated above, reduce all other TACs by a proportion that does not vary across species, so that the sum of all TACs, including rockfish TACs, is equal to the lower bound of the area OY (116,000 mt in the GOA). This alternative sets conservative and spatially explicit TACs for rockfish species that are long-lived and late to mature and sets conservative TACs for the other groundfish species.

• Alternative 5: (No Action) Set TACs at zero.

These four alternatives (1, 3, 4, and 5) do not meet the objectives of this action, and although Alternatives 1 and 3 may have a smaller adverse economic impact on small entities than the preferred alternative, Alternatives 4 and 5 would have a significant adverse economic impact on small entities. The Council rejected these alternatives as harvest strategies in 2006, and the Secretary did so in 2007.

Alternative 2 is the preferred alternative chosen by the Council: Set TACs that fall within the range of ABCs recommended through the Council harvest specifications process and TACs recommended by the Council. Under this scenario, F is set equal to a constant fraction of maxFABC. The recommended fractions of maxFABC may vary among species or stocks, based on other considerations unique to each. This is the method for determining TACs that has been used in the past.

Alternative 2 selected harvest rates that will allow fishermen to harvest stocks at the level of ABCs, unless total harvests are constrained by the upper bound of the GOA OY of 800,000 mt. The sums of ABCs in 2017 and 2018 are 667,877 mt and 597,052 mt, respectively. The sums of the TACs in 2017 and 2018 are 535,863 mt and 483,588 mt, respectively. Thus, although the sum of ABCs in each year is less than 800,000 mt, the sums of the TACs in each year are less than the sums of the ABCs.

In most cases, the Council has set TACs equal to ABCs. The divergence between aggregate TACs and aggregate ABCs reflects a variety of special species- and fishery-specific circumstances:

• Pacific cod TACs are set equal to 70 percent in the Western GOA and 75 percent in the Central and Eastern GOA of the Pacific cod ABCs in each year to account for the GHL set by the State for its GHL Pacific cod fisheries (30 percent of the Western GOA ABC and 25 percent of the Central and Eastern GOA ABCs). Thus, the difference between the Federal TACs and ABCs does not actually reflect a Pacific cod harvest below the Pacific cod ABC, as the balance is available for the State's cod GHL fisheries.

• Shallow-water flatfish and flathead sole TACs are set below ABCs in the Western Regulatory Area. Arrowtooth flounder TACs are set below ABC in all GOA regulatory areas. Catches of these flatfish species rarely, if ever, approach the proposed ABCs or TACs. Important trawl fisheries in the GOA take halibut PSC, and are constrained by limits on the allowable halibut PSC mortality. These limits may force the closure of trawl fisheries before they have harvested the available groundfish ABC. Thus, actual harvests of groundfish in the GOA routinely fall short of some ABCs and TACs. Markets can also constrain harvests below the TACs, as has been the case with arrowtooth flounder, in the past. These TACs are set to allow for increased harvest opportunities for these targets while conserving the halibut PSC limit for use in other, more fully utilized, fisheries.

• The other rockfish TAC is set below the ABC in the Southeast Outside District based on several factors. In addition to conservation concerns for the rockfish species in this group, there is a regulatory prohibition against using trawl gear east of 140° W. longitude. Because most species of other rockfish are caught exclusively with trawl gear, the catch of such species with other gear types, such as hook-and-line, is low. The commercial catch of other rockfish in the Eastern Regulatory Area, which includes the West Yakutat and Southeast Outside Districts, has ranged from approximately 70 mt to 248 mt per year over the last decade.

• The GOA-wide Atka mackerel TAC is set below the ABC. The estimates of survey biomass continue to be unreliable in the GOA. Therefore, the Council recommended and NMFS agrees that the Atka mackerel TAC in the GOA be set at an amount to support incidental catch in other directed fisheries.

Alternative 3 selects harvest rates based on the most recent 5 years of harvest rates (for species in Tiers 1 through 3) or for the most recent 5 years of harvests (for species in Tiers 4 through 6). This alternative is inconsistent with the objectives of this action because it does not take account of the most recent biological information for this fishery.

Alternative 4 would lead to significantly lower harvests of all species to reduce TACs from the upper end of the OY range in the GOA to its lower end of 116,000 mt. Overall, this alternative would reduce 2017 TACs by about 80 percent. This would lead to significant reductions in harvests of species by small entities. While production declines in the GOA would undoubtedly be associated with price increases in the GOA, these increases would still be constrained by the availability of substitutes, and are very unlikely to offset revenue declines from smaller production. Thus, this action would have a detrimental economic impact on small entities.

Alternative 5, which sets all harvests equal to zero, may also address conservation issues, but would have a significant adverse economic impact on small entities.

Impacts on marine mammals resulting from fishing activities conducted under this rule are discussed in the EIS and SIR (see ADDRESSES).

Pursuant to 5 U.S.C. 553(d)(3), the Assistant Administrator for Fisheries, NOAA, finds good cause to waive the 30-day delay in effectiveness for this rule because delaying this rule would be contrary to the public interest. The Plan Team review occurred in November 2016, and the Council considered and recommended the final harvest specifications in December 2016. Accordingly, NMFS' review could not begin until January 2017. For all fisheries not currently closed because the TACs established under the final 2016 and 2017 harvest specifications (81 FR 14740, March 18, 2016) were not reached, it is possible that they would be closed prior to the expiration of a 30-day delayed effectiveness period because their TACs could be reached within that period. If implemented immediately, this rule would allow these fisheries to continue because some of the new TACs implemented by this rule are higher than the ones under which they are currently fishing.

Certain fisheries, such as those for pollock and Pacific cod, are intensive, fast-paced fisheries. Other fisheries, such as those for sablefish, flatfish, rockfish, Atka mackerel, skates, sculpins, sharks, squids, and octopuses, are critical as directed fisheries and as incidental catch in other fisheries. U.S. fishing vessels have demonstrated the capacity to catch the TAC allocations in many of these fisheries. If this rule allowed for a 30-day delay in effectiveness and if a TAC were reached during those 30 days, NMFS would close directed fishing or prohibit retention for the applicable species. Any delay in allocating the final TACs in these fisheries would cause confusion to the industry and potential economic harm through unnecessary discards, thus undermining the intent of this rule. Waiving the 30-day delay allows NMFS to prevent economic loss to fishermen that could otherwise occur should the 2017 TACs (set under the 2016 and 2017 harvest specifications) be reached. Determining which fisheries may close is impossible because these fisheries are affected by several factors that cannot be predicted in advance, including fishing effort, weather, movement of fishery stocks, and market price. Furthermore, the closure of one fishery has a cascading effect on other fisheries by freeing-up fishing vessels, allowing them to move from closed fisheries to open ones, increasing the fishing capacity in those open fisheries, and causing them to close at an accelerated pace.

In fisheries subject to declining sideboard limits, a failure to implement the updated sideboard limits before initial season's end could deny the intended economic protection to the non-sideboarded sectors. Conversely, in fisheries with increasing sideboard limits, economic benefit could be denied to the sideboard limited sectors.

If the final harvest specifications are not effective by March 11, 2017, which is the start of the 2017 Pacific halibut season as specified by the IPHC, the hook-and-line sablefish fishery will not begin concurrently with the Pacific halibut IFQ season. This would result in confusion for the industry and economic harm from unnecessary discard of sablefish that are caught along with Pacific halibut, as both hook-and-line sablefish and Pacific halibut are managed under the same IFQ program. Immediate effectiveness of the final 2017 and 2018 harvest specifications will allow the sablefish IFQ fishery to begin concurrently with the Pacific halibut IFQ season.

In addition, the immediate effectiveness of this action is required to provide consistent management and conservation of fishery resources based on the best available scientific information. This is particularly true for those species that have lower 2017 ABCs and TACs than those established in the 2016 and 2017 harvest specifications (81 FR 14740, March 18, 2016). Immediate effectiveness also would give the fishing industry the earliest possible opportunity to plan and conduct its fishing operations with respect to new information about TACs. Therefore, NMFS finds good cause to waive the 30-day delay in effectiveness under 5 U.S.C. 553(d)(3).

Small Entity Compliance Guide

This final rule is a plain language guide to assist small entities in complying with this final rule as required by the Small Business Regulatory Enforcement Fairness Act of 1996. This final rule's primary purpose is to announce the final 2017 and 2018 harvest specifications and prohibited species bycatch allowances for the groundfish fisheries of the GOA. This action is necessary to establish harvest limits and associated management measures for groundfish during the 2017 and 2018 fishing years, and to accomplish the goals and objectives of the FMP. This action affects all fishermen who participate in the GOA fisheries. The specific amounts of OFL, ABC, TAC, and PSC are provided in tables to assist the reader. NMFS will announce closures of directed fishing in the Federal Register and information bulletins released by the Alaska Region. Affected fishermen should keep themselves informed of such closures.

Authority: 16 U.S.C. 773 et seq.; 16 U.S.C. 1540 (f), 1801 et seq.; 16 U.S.C. 3631 et seq.; Pub. L. 105-277; Pub. L. 106-31; Pub. L. 106-554; Pub. L. 108-199; Pub. L. 108-447; Pub. L. 109-241; Pub. L. 109-479.

Dated: February 21, 2017.
Alan D. Risenhoover,
Acting Deputy Assistant Administrator for Regulatory Programs, National Marine Fisheries Service.

[FR Doc. 2017-03697 Filed 2-24-17; 8:45 am]

BILLING CODE 3510-22-P